DEPARTMENT OF AGRICULTURE

Agricultural Marketing Service

7 CFR Part 1205

[Doc. # AMS-CN-14-0098]

Cotton Board Rules and Regulations: Adjusting Supplemental Assessment on Imports (2015 Amendments)

AGENCY: Agricultural Marketing Service, USDA.

ACTION: Direct final rule.

SUMMARY: The Agricultural Marketing Service (AMS) is amending the Cotton Board Rules and Regulations, decreasing the value assigned to imported cotton for the purposes of calculating supplemental assessments collected for use by the Cotton Research and Promotion Program. This amendment is required each year to ensure that assessments collected on imported cotton and the cotton content of imported products will be the same as those paid on domestically produced cotton.

DATES: This direct rule is effective November 2, 2015, without further action or notice, unless significant adverse comment is received by October 5, 2015. If significant adverse comment is received, AMS will publish a timely withdrawal of the amendment in the Federal Register.

ADDRESSES: Written comments may be submitted to the addresses specified below. All comments will be made available to the public. Please do not include personally identifiable information (such as name, address, or other contact information) or confidential business information that you do not want publically disclosed. All comments may be posted on the Internet and can be retrieved by most Internet search engines. Comments may be submitted anonymously.

Comments, identified by AMS-CN-14-0098, may be submitted electronically through the Federal eRulemaking Portal at http://www.regulations.gov. Please follow the instructions for submitting comments. In addition, comments may be submitted by mail or hand delivery to Cotton Research and Promotion Staff, Cotton and Tobacco Program, AMS, USDA, 100 Riverside Parkway, Suite 101, Fredericksburg, Virginia 22406. Comments should be submitted in triplicate. All comments received will be made available for public inspection at Cotton and Tobacco Program, AMS, USDA, 100 Riverside Parkway, Suite 101, Fredericksburg, Virginia 22406. A copy of this document may be found at: www.regulations.gov .

FOR FURTHER INFORMATION CONTACT: Shethir M. Riva, Chief, Research and Promotion Staff, Cotton and Tobacco Program, AMS, USDA, 100 Riverside Parkway, Suite 101, Fredericksburg, Virginia 22406, telephone (540) 361-2726, facsimile (540) 361-1199, or email at Shethir.Riva@ams.usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 stat. 3909, November 28, 1990). These amendments contained two provisions that authorize changes in the funding procedures for the Cotton Research and Promotion Program. These provisions provide for: (1) The assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2014 in the Federal Register (79 FR 36183) for the purpose of calculating assessments on imported cotton is $0.012728 per kilogram. Using the Average Weighted Price received by U.S. farmers for Upland cotton for the calendar year 2014, this direct final rule would amend the new value of imported cotton to $0.012013 per kilogram to reflect the price paid by U.S. farmers for Upland cotton during 2014.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or $0.2000 cents per pound (1/500) or $0.004409 per kg or $0.4409 cents per kg. (1/226.8).

Supplemental Assessment of 5/10 of One Percent of the Value of the Cotton Converted to Kilograms.

The 2014 calendar year weighted average price received by producers for Upland cotton is $0.690 per pound or $1.521 per kg. (0.690 × 2.2046).

Five tenths of one percent of the average price equals $0.007604 per kg. (1.521 × 0.005).

Total Assessment

The total assessment per kilogram of raw cotton is obtained by adding the $1 per bale equivalent assessment of $0.004409 per kg. and the supplemental assessment $0.007604 per kg., which equals $0.012013 per kg.

The current assessment on imported cotton is $0.012728 per kilogram of imported cotton. The revised assessment in this direct final rule is $0.012013, a decrease of $0.000715 per kilogram. This decrease reflects the decrease in the average weighted price of Upland cotton received by U.S. farmers during the period January through December 2014.

Import Assessment Table in section 1205.510(b)(3) indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

B. Good Cause Finding That Proposed Rulemaking Is Unnecessary

Rulemaking under section 553 of the Administrative Procedure Act (5 U.S.C. 551 et seq.) ordinarily involves publication of a notice of proposed rulemaking in the Federal Register and the public is given an opportunity to comment on the proposed rule; however, an agency may issue a rule without prior notice and comment procedures if it determines for good cause that public notice and comment procedures are impracticable, unnecessary, or contrary to the public interest for such rule, and incorporates a statement of the finding with the underlying reasons in the final rule issued.

As described in this Federal Register document, the amendment to the value used to determine the Cotton Research and Promotion Program importer assessment will be updated to reflect the assessment already paid by U.S. farmers. For the reasons mentioned in section A of this preamble, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

Notwithstanding the foregoing, in the “Proposed Rules” section of today's Federal Register, AMS is publishing a separate document that will serve as a notice of proposal to amend part 7 CFR part 1205 as described in this direct final rule. If AMS receives significant adverse comment during the comment period, it will publish, in a timely manner, a document in the Federal Register withdrawing this direct final rule. AMS will then address public comments in a subsequent final rule based on the proposed rule. AMS will not institute a second comment period on this rule. Any parties interested in commenting must do so during this comment period.

C. Regulatory Impact Analysis

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to access all costs and benefits of available regulatory alternatives and, if regulation is necessary, to select regulatory approaches that maximize net benefits (including potential economic, environmental, public health, and safety effects, distributive impacts and equity). Executive Order 13563 emphasizes the importance of quantifying both costs and benefits, reducing costs, harmonizing rules, and promoting flexibility. This action has been designated as a “non-significant regulatory action” under § 3(f) of Executive Order 12866, and therefore, review has been waived, and this action has not been reviewed by the Office of Management and Budget.

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,000,000. In 2014, an estimated 20,000 importers are subject to the rules and regulations issued pursuant to the Cotton Research and Promotion Order. Most are considered small entities as defined by the Small Business Administration.

This rule would only affect importers of cotton and cotton-containing products and would lower the assessments paid by the importers under the Cotton Research and Promotion Order. The current assessment on imported cotton is $0.012728 per kilogram of imported cotton. The proposed assessment is $0.012013, which was calculated based on the 12-month weighted average of price received by U.S. cotton farmers. Section 1205.510, “Levy of assessments”, provides “the rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2013 (the last audited year), producer assessments totaled $36.9 million and importer assessments totaled $42.2 million. According to the Cotton Board, should the volume of cotton products imported into the U.S. remain at the same level in 2014, one could expect a decrease of assessments by approximately $2,442,758.

Importers with line-items appearing on U.S. Customs and Border Protection documentation with value of the cotton contained therein which results in an assessment of two dollars ($2.00) or less will not be subject to assessments. In addition, imported organic cotton and products may be exempt from assessment if eligible under section 1205.519 of the Order.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because this rule would decrease the assessments paid by importers under the Cotton Research and Promotion Order. An amendment is required to adjust the assessments collected on imported cotton and the cotton content of imported products to be the same as those paid on domestically produced cotton. Accordingly, the change in this rule, if adopted, should be implemented as soon as possible.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for Part 1205 continues to read as follows:

Authority: 7 U.S.C. 2101-2118.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.2013 cents per kilogram.

(3) * * *

(ii) * * *

Import Assessment Table
[Raw cotton fiber]
HTS No. | CONV. FACTOR. | Cents/kg.
5007106010 | 0.2713 | 0.32591
5007106020 | 0.2713 | 0.32591
5007906010 | 0.2713 | 0.32591
5007906020 | 0.2713 | 0.32591
5112904000 | 0.1085 | 0.13034
5112905000 | 0.1085 | 0.13034
5112909010 | 0.1085 | 0.13034
5112909090 | 0.1085 | 0.13034
5201000500 | 0 | 1.2013
5201001200 | 0 | 1.2013
5201001400 | 0 | 1.2013
5201001800 | 0 | 1.2013
5201002200 | 0 | 1.2013
5201002400 | 0 | 1.2013
5201002800 | 0 | 1.2013
5201003400 | 0 | 1.2013
5201003800 | 0 | 1.2013
5204110000 | 1.0526 | 1.26449
5204190000 | 0.6316 | 0.75874
5204200000 | 1.0526 | 1.26449
5205111000 | 1 | 1.2013
5205112000 | 1 | 1.2013
5205121000 | 1 | 1.2013
5205122000 | 1 | 1.2013
5205131000 | 1 | 1.2013
5205132000 | 1 | 1.2013
5205141000 | 1 | 1.2013
5205142000 | 1 | 1.2013
5205151000 | 1 | 1.2013
5205152000 | 1 | 1.2013
5205210020 | 1.044 | 1.25416
5205210090 | 1.044 | 1.25416
5205220020 | 1.044 | 1.25416
5205220090 | 1.044 | 1.25416
5205230020 | 1.044 | 1.25416
5205230090 | 1.044 | 1.25416
5205240020 | 1.044 | 1.25416
5205240090 | 1.044 | 1.25416
5205260020 | 1.044 | 1.25416
5205260090 | 1.044 | 1.25416
5205270020 | 1.044 | 1.25416
5205270090 | 1.044 | 1.25416
5205280020 | 1.044 | 1.25416
5205280090 | 1.044 | 1.25416
5205310000 | 1 | 1.2013
5205320000 | 1 | 1.2013
5205330000 | 1 | 1.2013
5205340000 | 1 | 1.2013
5205350000 | 1 | 1.2013
5205410020 | 1.044 | 1.25416
5205410090 | 1.044 | 1.25416
5205420021 | 1.044 | 1.25416
5205420029 | 1.044 | 1.25416
5205420090 | 1.044 | 1.25416
5205430021 | 1.044 | 1.25416
5205430029 | 1.044 | 1.25416
5205430090 | 1.044 | 1.25416
5205440021 | 1.044 | 1.25416
5205440029 | 1.044 | 1.25416
5205440090 | 1.044 | 1.25416
5205460021 | 1.044 | 1.25416
5205460029 | 1.044 | 1.25416
5205460090 | 1.044 | 1.25416
5205470021 | 1.044 | 1.25416
5205470029 | 1.044 | 1.25416
5205470090 | 1.044 | 1.25416
5205480020 | 1.044 | 1.25416
5205480090 | 1.044 | 1.25416
5206110000 | 0.7368 | 0.88512
5206120000 | 0.7368 | 0.88512
5206130000 | 0.7368 | 0.88512
5206140000 | 0.7368 | 0.88512
5206150000 | 0.7368 | 0.88512
5206210000 | 0.7692 | 0.92404
5206220000 | 0.7692 | 0.92404
5206230000 | 0.7692 | 0.92404
5206240000 | 0.7692 | 0.92404
5206250000 | 0.7692 | 0.92404
5206310000 | 0.7368 | 0.88512
5206320000 | 0.7368 | 0.88512
5206330000 | 0.7368 | 0.88512
5206340000 | 0.7368 | 0.88512
5206350000 | 0.7368 | 0.88512
5206410000 | 0.7692 | 0.92404
5206420000 | 0.7692 | 0.92404
5206430000 | 0.7692 | 0.92404
5206440000 | 0.7692 | 0.92404
5206450000 | 0.7692 | 0.92404
5207100000 | 0.9474 | 1.13811
5207900000 | 0.6316 | 0.75874
5208112020 | 1.0852 | 1.30365
5208112040 | 1.0852 | 1.30365
5208112090 | 1.0852 | 1.30365
5208114020 | 1.0852 | 1.30365
5208114040 | 1.0852 | 1.30365
5208114060 | 1.0852 | 1.30365
5208114090 | 1.0852 | 1.30365
5208116000 | 1.0852 | 1.30365
5208118020 | 1.0852 | 1.30365
5208118090 | 1.0852 | 1.30365
5208124020 | 1.0852 | 1.30365
5208124040 | 1.0852 | 1.30365
5208124090 | 1.0852 | 1.30365
5208126020 | 1.0852 | 1.30365
5208126040 | 1.0852 | 1.30365
5208126060 | 1.0852 | 1.30365
5208126090 | 1.0852 | 1.30365
5208128020 | 1.0852 | 1.30365
5208128090 | 1.0852 | 1.30365
5208130000 | 1.0852 | 1.30365
5208192020 | 1.0852 | 1.30365
5208192090 | 1.0852 | 1.30365
5208194020 | 1.0852 | 1.30365
5208194090 | 1.0852 | 1.30365
5208196020 | 1.0852 | 1.30365
5208196090 | 1.0852 | 1.30365
5208198020 | 1.0852 | 1.30365
5208198090 | 1.0852 | 1.30365
5208212020 | 1.0852 | 1.30365
5208212040 | 1.0852 | 1.30365
5208212090 | 1.0852 | 1.30365
5208214020 | 1.0852 | 1.30365
5208214040 | 1.0852 | 1.30365
5208214060 | 1.0852 | 1.30365
5208214090 | 1.0852 | 1.30365
5208216020 | 1.0852 | 1.30365
5208216090 | 1.0852 | 1.30365
5208224020 | 1.0852 | 1.30365
5208224040 | 1.0852 | 1.30365
5208224090 | 1.0852 | 1.30365
5208226020 | 1.0852 | 1.30365
5208226040 | 1.0852 | 1.30365
5208226060 | 1.0852 | 1.30365
5208226090 | 1.0852 | 1.30365
5208228020 | 1.0852 | 1.30365
5208228090 | 1.0852 | 1.30365
5208230000 | 1.0852 | 1.30365
5208292020 | 1.0852 | 1.30365
5208292090 | 1.0852 | 1.30365
5208294020 | 1.0852 | 1.30365
5208294090 | 1.0852 | 1.30365
5208296020 | 1.0852 | 1.30365
5208296090 | 1.0852 | 1.30365
5208298020 | 1.0852 | 1.30365
5208298090 | 1.0852 | 1.30365
5208312000 | 1.0852 | 1.30365
5208314020 | 1.0852 | 1.30365
5208314040 | 1.0852 | 1.30365
5208314090 | 1.0852 | 1.30365
5208316020 | 1.0852 | 1.30365
5208316040 | 1.0852 | 1.30365
5208316060 | 1.0852 | 1.30365
5208316090 | 1.0852 | 1.30365
5208318020 | 1.0852 | 1.30365
5208318090 | 1.0852 | 1.30365
5208321000 | 1.0852 | 1.30365
5208323020 | 1.0852 | 1.30365
5208323040 | 1.0852 | 1.30365
5208323090 | 1.0852 | 1.30365
5208324020 | 1.0852 | 1.30365
5208324040 | 1.0852 | 1.30365
5208324060 | 1.0852 | 1.30365
5208324090 | 1.0852 | 1.30365
5208325020 | 1.0852 | 1.30365
5208325090 | 1.0852 | 1.30365
5208330000 | 1.0852 | 1.30365
5208392020 | 1.0852 | 1.30365
5208392090 | 1.0852 | 1.30365
5208394020 | 1.0852 | 1.30365
5208394090 | 1.0852 | 1.30365
5208396020 | 1.0852 | 1.30365
5208396090 | 1.0852 | 1.30365
5208398020 | 1.0852 | 1.30365
5208398090 | 1.0852 | 1.30365
5208412000 | 1.0852 | 1.30365
5208414000 | 1.0852 | 1.30365
5208416000 | 1.0852 | 1.30365
5208418000 | 1.0852 | 1.30365
5208421000 | 1.0852 | 1.30365
5208423000 | 1.0852 | 1.30365
5208424000 | 1.0852 | 1.30365
5208425000 | 1.0852 | 1.30365
5208430000 | 1.0852 | 1.30365
5208492000 | 1.0852 | 1.30365
5208494010 | 1.0852 | 1.30365
5208494020 | 1.0852 | 1.30365
5208494090 | 1.0852 | 1.30365
5208496010 | 1.0852 | 1.30365
5208496020 | 1.0852 | 1.30365
5208496030 | 1.0852 | 1.30365
5208496090 | 1.0852 | 1.30365
5208498020 | 1.0852 | 1.30365
5208498090 | 1.0852 | 1.30365
5208512000 | 1.0852 | 1.30365
5208514020 | 1.0852 | 1.30365
5208514040 | 1.0852 | 1.30365
5208514090 | 1.0852 | 1.30365
5208516020 | 1.0852 | 1.30365
5208516040 | 1.0852 | 1.30365
5208516060 | 1.0852 | 1.30365
5208516090 | 1.0852 | 1.30365
5208518020 | 1.0852 | 1.30365
5208518090 | 1.0852 | 1.30365
5208521000 | 1.0852 | 1.30365
5208523020 | 1.0852 | 1.30365
5208523035 | 1.0852 | 1.30365
5208523045 | 1.0852 | 1.30365
5208523090 | 1.0852 | 1.30365
5208524020 | 1.0852 | 1.30365
5208524035 | 1.0852 | 1.30365
5208524045 | 1.0852 | 1.30365
5208524055 | 1.0852 | 1.30365
5208524065 | 1.0852 | 1.30365
5208524090 | 1.0852 | 1.30365
5208525020 | 1.0852 | 1.30365
5208525090 | 1.0852 | 1.30365
5208591000 | 1.0852 | 1.30365
5208592015 | 1.0852 | 1.30365
5208592025 | 1.0852 | 1.30365
5208592085 | 1.0852 | 1.30365
5208592095 | 1.0852 | 1.30365
5208594020 | 1.0852 | 1.30365
5208594090 | 1.0852 | 1.30365
5208596020 | 1.0852 | 1.30365
5208596090 | 1.0852 | 1.30365
5208598020 | 1.0852 | 1.30365
5208598090 | 1.0852 | 1.30365
5209110020 | 1.0309 | 1.23842
5209110025 | 1.0309 | 1.23842
5209110035 | 1.0309 | 1.23842
5209110050 | 1.0309 | 1.23842
5209110090 | 1.0309 | 1.23842
5209120020 | 1.0309 | 1.23842
5209120040 | 1.0309 | 1.23842
5209190020 | 1.0309 | 1.23842
5209190040 | 1.0309 | 1.23842
5209190060 | 1.0309 | 1.23842
5209190090 | 1.0309 | 1.23842
5209210020 | 1.0309 | 1.23842
5209210025 | 1.0309 | 1.23842
5209210035 | 1.0309 | 1.23842
5209210050 | 1.0309 | 1.23842
5209210090 | 1.0309 | 1.23842
5209220020 | 1.0309 | 1.23842
5209220040 | 1.0309 | 1.23842
5209290020 | 1.0309 | 1.23842
5209290040 | 1.0309 | 1.23842
5209290060 | 1.0309 | 1.23842
5209290090 | 1.0309 | 1.23842
5209313000 | 1.0309 | 1.23842
5209316020 | 1.0309 | 1.23842
5209316025 | 1.0309 | 1.23842
5209316035 | 1.0309 | 1.23842
5209316050 | 1.0309 | 1.23842
5209316090 | 1.0309 | 1.23842
5209320020 | 1.0309 | 1.23842
5209320040 | 1.0309 | 1.23842
5209390020 | 1.0309 | 1.23842
5209390040 | 1.0309 | 1.23842
5209390060 | 1.0309 | 1.23842
5209390080 | 1.0309 | 1.23842
5209390090 | 1.0309 | 1.23842
5209413000 | 1.0309 | 1.23842
5209416020 | 1.0309 | 1.23842
5209416040 | 1.0309 | 1.23842
5209420020 | 0.9767 | 1.17331
5209420040 | 0.9767 | 1.17331
5209420060 | 0.9767 | 1.17331
5209420080 | 0.9767 | 1.17331
5209430030 | 1.0309 | 1.23842
5209430050 | 1.0309 | 1.23842
5209490020 | 1.0309 | 1.23842
5209490040 | 1.0309 | 1.23842
5209490090 | 1.0309 | 1.23842
5209513000 | 1.0309 | 1.23842
5209516015 | 1.0852 | 1.30365
5209516025 | 1.0852 | 1.30365
5209516032 | 1.0852 | 1.30365
5209516035 | 1.0852 | 1.30365
5209516050 | 1.0852 | 1.30365
5209516090 | 1.0852 | 1.30365
5209520020 | 1.0852 | 1.30365
5209520040 | 1.0852 | 1.30365
5209590015 | 1.0852 | 1.30365
5209590025 | 1.0852 | 1.30365
5209590040 | 1.0852 | 1.30365
5209590060 | 1.0852 | 1.30365
5209590090 | 1.0852 | 1.30365
5210114020 | 0.6511 | 0.78217
5210114040 | 0.6511 | 0.78217
5210114090 | 0.6511 | 0.78217
5210116020 | 0.6511 | 0.78217
5210116040 | 0.6511 | 0.78217
5210116060 | 0.6511 | 0.78217
5210116090 | 0.6511 | 0.78217
5210118020 | 0.6511 | 0.78217
5210118090 | 0.6511 | 0.78217
5210191000 | 0.6511 | 0.78217
5210192020 | 0.6511 | 0.78217
5210192090 | 0.6511 | 0.78217
5210194020 | 0.6511 | 0.78217
5210194090 | 0.6511 | 0.78217
5210196020 | 0.6511 | 0.78217
5210196090 | 0.6511 | 0.78217
5210198020 | 0.6511 | 0.78217
5210198090 | 0.6511 | 0.78217
5210214020 | 0.6511 | 0.78217
5210214040 | 0.6511 | 0.78217
5210214090 | 0.6511 | 0.78217
5210216020 | 0.6511 | 0.78217
5210216040 | 0.6511 | 0.78217
5210216060 | 0.6511 | 0.78217
5210216090 | 0.6511 | 0.78217
5210218020 | 0.6511 | 0.78217
5210218090 | 0.6511 | 0.78217
5210291000 | 0.6511 | 0.78217
5210292020 | 0.6511 | 0.78217
5210292090 | 0.6511 | 0.78217
5210294020 | 0.6511 | 0.78217
5210294090 | 0.6511 | 0.78217
5210296020 | 0.6511 | 0.78217
5210296090 | 0.6511 | 0.78217
5210298020 | 0.6511 | 0.78217
5210298090 | 0.6511 | 0.78217
5210314020 | 0.6511 | 0.78217
5210314040 | 0.6511 | 0.78217
5210314090 | 0.6511 | 0.78217
5210316020 | 0.6511 | 0.78217
5210316040 | 0.6511 | 0.78217
5210316060 | 0.6511 | 0.78217
5210316090 | 0.6511 | 0.78217
5210318020 | 0.6511 | 0.78217
5210318090 | 0.6511 | 0.78217
5210320000 | 0.6511 | 0.78217
5210392020 | 0.6511 | 0.78217
5210392090 | 0.6511 | 0.78217
5210394020 | 0.6511 | 0.78217
5210394090 | 0.6511 | 0.78217
5210396020 | 0.6511 | 0.78217
5210396090 | 0.6511 | 0.78217
5210398020 | 0.6511 | 0.78217
5210398090 | 0.6511 | 0.78217
5210414000 | 0.6511 | 0.78217
5210416000 | 0.6511 | 0.78217
5210418000 | 0.6511 | 0.78217
5210491000 | 0.6511 | 0.78217
5210492000 | 0.6511 | 0.78217
5210494010 | 0.6511 | 0.78217
5210494020 | 0.6511 | 0.78217
5210494090 | 0.6511 | 0.78217
5210496010 | 0.6511 | 0.78217
5210496020 | 0.6511 | 0.78217
5210496090 | 0.6511 | 0.78217
5210498020 | 0.6511 | 0.78217
5210498090 | 0.6511 | 0.78217
5210514020 | 0.6511 | 0.78217
5210514040 | 0.6511 | 0.78217
5210514090 | 0.6511 | 0.78217
5210516020 | 0.6511 | 0.78217
5210516040 | 0.6511 | 0.78217
5210516060 | 0.6511 | 0.78217
5210516090 | 0.6511 | 0.78217
5210518020 | 0.6511 | 0.78217
5210518090 | 0.6511 | 0.78217
5210591000 | 0.6511 | 0.78217
5210592020 | 0.6511 | 0.78217
5210592090 | 0.6511 | 0.78217
5210594020 | 0.6511 | 0.78217
5210594090 | 0.6511 | 0.78217
5210596020 | 0.6511 | 0.78217
5210596090 | 0.6511 | 0.78217
5210598020 | 0.6511 | 0.78217
5210598090 | 0.6511 | 0.78217
5211110020 | 0.6511 | 0.78217
5211110025 | 0.6511 | 0.78217
5211110035 | 0.6511 | 0.78217
5211110050 | 0.6511 | 0.78217
5211110090 | 0.6511 | 0.78217
5211120020 | 0.6511 | 0.78217
5211120040 | 0.6511 | 0.78217
5211190020 | 0.6511 | 0.78217
5211190040 | 0.6511 | 0.78217
5211190060 | 0.6511 | 0.78217
5211190090 | 0.6511 | 0.78217
5211202120 | 0.6511 | 0.78217
5211202125 | 0.6511 | 0.78217
5211202135 | 0.6511 | 0.78217
5211202150 | 0.6511 | 0.78217
5211202190 | 0.6511 | 0.78217
5211202220 | 0.6511 | 0.78217
5211202240 | 0.6511 | 0.78217
5211202920 | 0.6511 | 0.78217
5211202940 | 0.6511 | 0.78217
5211202960 | 0.6511 | 0.78217
5211202990 | 0.6511 | 0.78217
5211310020 | 0.6511 | 0.78217
5211310025 | 0.6511 | 0.78217
5211310035 | 0.6511 | 0.78217
5211310050 | 0.6511 | 0.78217
5211310090 | 0.6511 | 0.78217
5211320020 | 0.6511 | 0.78217
5211320040 | 0.6511 | 0.78217
5211390020 | 0.6511 | 0.78217
5211390040 | 0.6511 | 0.78217
5211390060 | 0.6511 | 0.78217
5211390090 | 0.6511 | 0.78217
5211410020 | 0.6511 | 0.78217
5211410040 | 0.6511 | 0.78217
5211420020 | 0.7054 | 0.8474
5211420040 | 0.7054 | 0.8474
5211420060 | 0.6511 | 0.78217
5211420080 | 0.6511 | 0.78217
5211430030 | 0.6511 | 0.78217
5211430050 | 0.6511 | 0.78217
5211490020 | 0.6511 | 0.78217
5211490090 | 0.6511 | 0.78217
5211510020 | 0.6511 | 0.78217
5211510030 | 0.6511 | 0.78217
5211510050 | 0.6511 | 0.78217
5211510090 | 0.6511 | 0.78217
5211520020 | 0.6511 | 0.78217
5211520040 | 0.6511 | 0.78217
5211590015 | 0.6511 | 0.78217
5211590025 | 0.6511 | 0.78217
5211590040 | 0.6511 | 0.78217
5211590060 | 0.6511 | 0.78217
5211590090 | 0.6511 | 0.78217
5212111010 | 0.5845 | 0.70216
5212111020 | 0.6231 | 0.74853
5212116010 | 0.8681 | 1.04285
5212116020 | 0.8681 | 1.04285
5212116030 | 0.8681 | 1.04285
5212116040 | 0.8681 | 1.04285
5212116050 | 0.8681 | 1.04285
5212116060 | 0.8681 | 1.04285
5212116070 | 0.8681 | 1.04285
5212116080 | 0.8681 | 1.04285
5212116090 | 0.8681 | 1.04285
5212121010 | 0.5845 | 0.70216
5212121020 | 0.6231 | 0.74853
5212126010 | 0.8681 | 1.04285
5212126020 | 0.8681 | 1.04285
5212126030 | 0.8681 | 1.04285
5212126040 | 0.8681 | 1.04285
5212126050 | 0.8681 | 1.04285
5212126060 | 0.8681 | 1.04285
5212126070 | 0.8681 | 1.04285
5212126080 | 0.8681 | 1.04285
5212126090 | 0.8681 | 1.04285
5212131010 | 0.5845 | 0.70216
5212131020 | 0.6231 | 0.74853
5212136010 | 0.8681 | 1.04285
5212136020 | 0.8681 | 1.04285
5212136030 | 0.8681 | 1.04285
5212136040 | 0.8681 | 1.04285
5212136050 | 0.8681 | 1.04285
5212136060 | 0.8681 | 1.04285
5212136070 | 0.8681 | 1.04285
5212136080 | 0.8681 | 1.04285
5212136090 | 0.8681 | 1.04285
5212141010 | 0.5845 | 0.70216
5212141020 | 0.6231 | 0.74853
5212146010 | 0.8681 | 1.04285
5212146020 | 0.8681 | 1.04285
5212146030 | 0.8681 | 1.04285
5212146090 | 0.8681 | 1.04285
5212151010 | 0.5845 | 0.70216
5212151020 | 0.6231 | 0.74853
5212156010 | 0.8681 | 1.04285
5212156020 | 0.8681 | 1.04285
5212156030 | 0.8681 | 1.04285
5212156040 | 0.8681 | 1.04285
5212156050 | 0.8681 | 1.04285
5212156060 | 0.8681 | 1.04285
5212156070 | 0.8681 | 1.04285
5212156080 | 0.8681 | 1.04285
5212156090 | 0.8681 | 1.04285
5212211010 | 0.5845 | 0.70216
5212211020 | 0.6231 | 0.74853
5212216010 | 0.8681 | 1.04285
5212216020 | 0.8681 | 1.04285
5212216030 | 0.8681 | 1.04285
5212216040 | 0.8681 | 1.04285
5212216050 | 0.8681 | 1.04285
5212216060 | 0.8681 | 1.04285
5212216090 | 0.8681 | 1.04285
5212221010 | 0.5845 | 0.70216
5212221020 | 0.6231 | 0.74853
5212226010 | 0.8681 | 1.04285
5212226020 | 0.8681 | 1.04285
5212226030 | 0.8681 | 1.04285
5212226040 | 0.8681 | 1.04285
5212226050 | 0.8681 | 1.04285
5212226060 | 0.8681 | 1.04285
5212226090 | 0.8681 | 1.04285
5212231010 | 0.5845 | 0.70216
5212231020 | 0.6231 | 0.74853
5212236010 | 0.8681 | 1.04285
5212236020 | 0.8681 | 1.04285
5212236030 | 0.8681 | 1.04285
5212236040 | 0.8681 | 1.04285
5212236050 | 0.8681 | 1.04285
5212236060 | 0.8681 | 1.04285
5212236090 | 0.8681 | 1.04285
5212241010 | 0.5845 | 0.70216
5212241020 | 0.6231 | 0.74853
5212246010 | 0.8681 | 1.04285
5212246020 | 0.7054 | 0.8474
5212246030 | 0.8681 | 1.04285
5212246040 | 0.8681 | 1.04285
5212246090 | 0.8681 | 1.04285
5212251010 | 0.5845 | 0.70216
5212251020 | 0.6231 | 0.74853
5212256010 | 0.8681 | 1.04285
5212256020 | 0.8681 | 1.04285
5212256030 | 0.8681 | 1.04285
5212256040 | 0.8681 | 1.04285
5212256050 | 0.8681 | 1.04285
5212256060 | 0.8681 | 1.04285
5212256090 | 0.8681 | 1.04285
5309213005 | 0.5426 | 0.65183
5309213010 | 0.5426 | 0.65183
5309213015 | 0.5426 | 0.65183
5309213020 | 0.5426 | 0.65183
5309214010 | 0.2713 | 0.32591
5309214090 | 0.2713 | 0.32591
5309293005 | 0.5426 | 0.65183
5309293010 | 0.5426 | 0.65183
5309293015 | 0.5426 | 0.65183
5309293020 | 0.5426 | 0.65183
5309294010 | 0.2713 | 0.32591
5309294090 | 0.2713 | 0.32591
5311003005 | 0.5426 | 0.65183
5311003010 | 0.5426 | 0.65183
5311003015 | 0.5426 | 0.65183
5311003020 | 0.5426 | 0.65183
5311004010 | 0.8681 | 1.04285
5311004020 | 0.8681 | 1.04285
5407810010 | 0.5426 | 0.65183
5407810020 | 0.5426 | 0.65183
5407810030 | 0.5426 | 0.65183
5407810040 | 0.5426 | 0.65183
5407810090 | 0.5426 | 0.65183
5407820010 | 0.5426 | 0.65183
5407820020 | 0.5426 | 0.65183
5407820030 | 0.5426 | 0.65183
5407820040 | 0.5426 | 0.65183
5407820090 | 0.5426 | 0.65183
5407830010 | 0.5426 | 0.65183
5407830020 | 0.5426 | 0.65183
5407830030 | 0.5426 | 0.65183
5407830040 | 0.5426 | 0.65183
5407830090 | 0.5426 | 0.65183
5407840010 | 0.5426 | 0.65183
5407840020 | 0.5426 | 0.65183
5407840030 | 0.5426 | 0.65183
5407840040 | 0.5426 | 0.65183
5407840090 | 0.5426 | 0.65183
5509210000 | 0.1053 | 0.1265
5509220010 | 0.1053 | 0.1265
5509220090 | 0.1053 | 0.1265
5509530030 | 0.3158 | 0.37937
5509530060 | 0.3158 | 0.37937
5509620000 | 0.5263 | 0.63224
5509920000 | 0.5263 | 0.63224
5510300000 | 0.3684 | 0.44256
5511200000 | 0.3158 | 0.37937
5512110010 | 0.1085 | 0.13034
5512110022 | 0.1085 | 0.13034
5512110027 | 0.1085 | 0.13034
5512110030 | 0.1085 | 0.13034
5512110040 | 0.1085 | 0.13034
5512110050 | 0.1085 | 0.13034
5512110060 | 0.1085 | 0.13034
5512110070 | 0.1085 | 0.13034
5512110090 | 0.1085 | 0.13034
5512190005 | 0.1085 | 0.13034
5512190010 | 0.1085 | 0.13034
5512190015 | 0.1085 | 0.13034
5512190022 | 0.1085 | 0.13034
5512190027 | 0.1085 | 0.13034
5512190030 | 0.1085 | 0.13034
5512190035 | 0.1085 | 0.13034
5512190040 | 0.1085 | 0.13034
5512190045 | 0.1085 | 0.13034
5512190050 | 0.1085 | 0.13034
5512190090 | 0.1085 | 0.13034
5512210010 | 0.0326 | 0.03916
5512210020 | 0.0326 | 0.03916
5512210030 | 0.0326 | 0.03916
5512210040 | 0.0326 | 0.03916
5512210060 | 0.0326 | 0.03916
5512210070 | 0.0326 | 0.03916
5512210090 | 0.0326 | 0.03916
5512290010 | 0.217 | 0.26068
5512910010 | 0.0543 | 0.06523
5512990005 | 0.0543 | 0.06523
5512990010 | 0.0543 | 0.06523
5512990015 | 0.0543 | 0.06523
5512990020 | 0.0543 | 0.06523
5512990025 | 0.0543 | 0.06523
5512990030 | 0.0543 | 0.06523
5512990035 | 0.0543 | 0.06523
5512990040 | 0.0543 | 0.06523
5512990045 | 0.0543 | 0.06523
5512990090 | 0.0543 | 0.06523
5513110020 | 0.3581 | 0.43019
5513110040 | 0.3581 | 0.43019
5513110060 | 0.3581 | 0.43019
5513110090 | 0.3581 | 0.43019
5513120000 | 0.3581 | 0.43019
5513130020 | 0.3581 | 0.43019
5513130040 | 0.3581 | 0.43019
5513130090 | 0.3581 | 0.43019
5513190010 | 0.3581 | 0.43019
5513190020 | 0.3581 | 0.43019
5513190030 | 0.3581 | 0.43019
5513190040 | 0.3581 | 0.43019
5513190050 | 0.3581 | 0.43019
5513190060 | 0.3581 | 0.43019
5513190090 | 0.3581 | 0.43019
5513210020 | 0.3581 | 0.43019
5513210040 | 0.3581 | 0.43019
5513210060 | 0.3581 | 0.43019
5513210090 | 0.3581 | 0.43019
5513230121 | 0.3581 | 0.43019
5513230141 | 0.3581 | 0.43019
5513230191 | 0.3581 | 0.43019
5513290010 | 0.3581 | 0.43019
5513290020 | 0.3581 | 0.43019
5513290030 | 0.3581 | 0.43019
5513290040 | 0.3581 | 0.43019
5513290050 | 0.3581 | 0.43019
5513290060 | 0.3581 | 0.43019
5513290090 | 0.3581 | 0.43019
5513310000 | 0.3581 | 0.43019
5513390111 | 0.3581 | 0.43019
5513390115 | 0.3581 | 0.43019
5513390191 | 0.3581 | 0.43019
5513410020 | 0.3581 | 0.43019
5513410040 | 0.3581 | 0.43019
5513410060 | 0.3581 | 0.43019
5513410090 | 0.3581 | 0.43019
5513491000 | 0.3581 | 0.43019
5513492020 | 0.3581 | 0.43019
5513492040 | 0.3581 | 0.43019
5513492090 | 0.3581 | 0.43019
5513499010 | 0.3581 | 0.43019
5513499020 | 0.3581 | 0.43019
5513499030 | 0.3581 | 0.43019
5513499040 | 0.3581 | 0.43019
5513499050 | 0.3581 | 0.43019
5513499060 | 0.3581 | 0.43019
5513499090 | 0.3581 | 0.43019
5514110020 | 0.4341 | 0.52148
5514110030 | 0.4341 | 0.52148
5514110050 | 0.4341 | 0.52148
5514110090 | 0.4341 | 0.52148
5514120020 | 0.4341 | 0.52148
5514120040 | 0.4341 | 0.52148
5514191020 | 0.4341 | 0.52148
5514191040 | 0.4341 | 0.52148
5514191090 | 0.4341 | 0.52148
5514199010 | 0.4341 | 0.52148
5514199020 | 0.4341 | 0.52148
5514199030 | 0.4341 | 0.52148
5514199040 | 0.4341 | 0.52148
5514199090 | 0.4341 | 0.52148
5514210020 | 0.4341 | 0.52148
5514210030 | 0.4341 | 0.52148
5514210050 | 0.4341 | 0.52148
5514210090 | 0.4341 | 0.52148
5514220020 | 0.4341 | 0.52148
5514220040 | 0.4341 | 0.52148
5514230020 | 0.4341 | 0.52148
5514230040 | 0.4341 | 0.52148
5514230090 | 0.4341 | 0.52148
5514290010 | 0.4341 | 0.52148
5514290020 | 0.4341 | 0.52148
5514290030 | 0.4341 | 0.52148
5514290040 | 0.4341 | 0.52148
5514290090 | 0.4341 | 0.52148
5514303100 | 0.4341 | 0.52148
5514303210 | 0.4341 | 0.52148
5514303215 | 0.4341 | 0.52148
5514303280 | 0.4341 | 0.52148
5514303310 | 0.4341 | 0.52148
5514303390 | 0.4341 | 0.52148
5514303910 | 0.4341 | 0.52148
5514303920 | 0.4341 | 0.52148
5514303990 | 0.4341 | 0.52148
5514410020 | 0.4341 | 0.52148
5514410030 | 0.4341 | 0.52148
5514410050 | 0.4341 | 0.52148
5514410090 | 0.4341 | 0.52148
5514420020 | 0.4341 | 0.52148
5514420040 | 0.4341 | 0.52148
5514430020 | 0.4341 | 0.52148
5514430040 | 0.4341 | 0.52148
5514430090 | 0.4341 | 0.52148
5514490010 | 0.4341 | 0.52148
5514490020 | 0.4341 | 0.52148
5514490030 | 0.4341 | 0.52148
5514490040 | 0.4341 | 0.52148
5514490090 | 0.4341 | 0.52148
5515110005 | 0.1085 | 0.13034
5515110010 | 0.1085 | 0.13034
5515110015 | 0.1085 | 0.13034
5515110020 | 0.1085 | 0.13034
5515110025 | 0.1085 | 0.13034
5515110030 | 0.1085 | 0.13034
5515110035 | 0.1085 | 0.13034
5515110040 | 0.1085 | 0.13034
5515110045 | 0.1085 | 0.13034
5515110090 | 0.1085 | 0.13034
5515120010 | 0.1085 | 0.13034
5515120022 | 0.1085 | 0.13034
5515120027 | 0.1085 | 0.13034
5515120030 | 0.1085 | 0.13034
5515120040 | 0.1085 | 0.13034
5515120090 | 0.1085 | 0.13034
5515190005 | 0.1085 | 0.13034
5515190010 | 0.1085 | 0.13034
5515190015 | 0.1085 | 0.13034
5515190020 | 0.1085 | 0.13034
5515190025 | 0.1085 | 0.13034
5515190030 | 0.1085 | 0.13034
5515190035 | 0.1085 | 0.13034
5515190040 | 0.1085 | 0.13034
5515190045 | 0.1085 | 0.13034
5515190090 | 0.1085 | 0.13034
5515290005 | 0.1085 | 0.13034
5515290010 | 0.1085 | 0.13034
5515290015 | 0.1085 | 0.13034
5515290020 | 0.1085 | 0.13034
5515290025 | 0.1085 | 0.13034
5515290030 | 0.1085 | 0.13034
5515290035 | 0.1085 | 0.13034
5515290040 | 0.1085 | 0.13034
5515290045 | 0.1085 | 0.13034
5515290090 | 0.1085 | 0.13034
5515999005 | 0.1085 | 0.13034
5515999010 | 0.1085 | 0.13034
5515999015 | 0.1085 | 0.13034
5515999020 | 0.1085 | 0.13034
5515999025 | 0.1085 | 0.13034
5515999030 | 0.1085 | 0.13034
5515999035 | 0.1085 | 0.13034
5515999040 | 0.1085 | 0.13034
5515999045 | 0.1085 | 0.13034
5515999090 | 0.1085 | 0.13034
5516210010 | 0.1085 | 0.13034
5516210020 | 0.1085 | 0.13034
5516210030 | 0.1085 | 0.13034
5516210040 | 0.1085 | 0.13034
5516210090 | 0.1085 | 0.13034
5516220010 | 0.1085 | 0.13034
5516220020 | 0.1085 | 0.13034
5516220030 | 0.1085 | 0.13034
5516220040 | 0.1085 | 0.13034
5516220090 | 0.1085 | 0.13034
5516230010 | 0.1085 | 0.13034
5516230020 | 0.1085 | 0.13034
5516230030 | 0.1085 | 0.13034
5516230040 | 0.1085 | 0.13034
5516230090 | 0.1085 | 0.13034
5516240010 | 0.1085 | 0.13034
5516240020 | 0.1085 | 0.13034
5516240030 | 0.1085 | 0.13034
5516240040 | 0.1085 | 0.13034
5516240085 | 0.1085 | 0.13034
5516240095 | 0.1085 | 0.13034
5516410010 | 0.3798 | 0.45625
5516410022 | 0.3798 | 0.45625
5516410027 | 0.3798 | 0.45625
5516410030 | 0.3798 | 0.45625
5516410040 | 0.3798 | 0.45625
5516410050 | 0.3798 | 0.45625
5516410060 | 0.3798 | 0.45625
5516410070 | 0.3798 | 0.45625
5516410090 | 0.3798 | 0.45625
5516420010 | 0.3798 | 0.45625
5516420022 | 0.3798 | 0.45625
5516420027 | 0.3798 | 0.45625
5516420030 | 0.3798 | 0.45625
5516420040 | 0.3798 | 0.45625
5516420050 | 0.3798 | 0.45625
5516420060 | 0.3798 | 0.45625
5516420070 | 0.3798 | 0.45625
5516420090 | 0.3798 | 0.45625
5516430010 | 0.217 | 0.26068
5516430015 | 0.3798 | 0.45625
5516430020 | 0.3798 | 0.45625
5516430035 | 0.3798 | 0.45625
5516430080 | 0.3798 | 0.45625
5516440010 | 0.3798 | 0.45625
5516440022 | 0.3798 | 0.45625
5516440027 | 0.3798 | 0.45625
5516440030 | 0.3798 | 0.45625
5516440040 | 0.3798 | 0.45625
5516440050 | 0.3798 | 0.45625
5516440060 | 0.3798 | 0.45625
5516440070 | 0.3798 | 0.45625
5516440090 | 0.3798 | 0.45625
5516910010 | 0.0543 | 0.06523
5516910020 | 0.0543 | 0.06523
5516910030 | 0.0543 | 0.06523
5516910040 | 0.0543 | 0.06523
5516910050 | 0.0543 | 0.06523
5516910060 | 0.0543 | 0.06523
5516910070 | 0.0543 | 0.06523
5516910090 | 0.0543 | 0.06523
5516920010 | 0.0543 | 0.06523
5516920020 | 0.0543 | 0.06523
5516920030 | 0.0543 | 0.06523
5516920040 | 0.0543 | 0.06523
5516920050 | 0.0543 | 0.06523
5516920060 | 0.0543 | 0.06523
5516920070 | 0.0543 | 0.06523
5516920090 | 0.0543 | 0.06523
5516930010 | 0.0543 | 0.06523
5516930020 | 0.0543 | 0.06523
5516930090 | 0.0543 | 0.06523
5516940010 | 0.0543 | 0.06523
5516940020 | 0.0543 | 0.06523
5516940030 | 0.0543 | 0.06523
5516940040 | 0.0543 | 0.06523
5516940050 | 0.0543 | 0.06523
5516940060 | 0.0543 | 0.06523
5516940070 | 0.0543 | 0.06523
5516940090 | 0.0543 | 0.06523
5601210010 | 0.9767 | 1.17331
5601210090 | 0.9767 | 1.17331
5601220010 | 0.9767 | 1.17331
5601220090 | 0.9767 | 1.17331
5601300000 | 0.3256 | 0.39114
5602101000 | 0.0543 | 0.06523
5602109090 | 0.4341 | 0.52148
5602290000 | 0.4341 | 0.52148
5602909000 | 0.3256 | 0.39114
5603143000 | 0.2713 | 0.32591
5603910010 | 0.0217 | 0.02607
5603910090 | 0.0651 | 0.0782
5603920010 | 0.0217 | 0.02607
5603920090 | 0.0651 | 0.0782
5603930010 | 0.0217 | 0.02607
5603930090 | 0.0651 | 0.0782
5603941090 | 0.3256 | 0.39114
5603943000 | 0.1628 | 0.19557
5603949010 | 0.0326 | 0.03916
5604100000 | 0.2632 | 0.31618
5604909000 | 0.2105 | 0.25287
5605009000 | 0.1579 | 0.18969
5606000010 | 0.1263 | 0.15172
5606000090 | 0.1263 | 0.15172
5607502500 | 0.1684 | 0.2023
5607909000 | 0.8421 | 1.01161
5608902300 | 0.6316 | 0.75874
5608902700 | 0.6316 | 0.75874
5608903000 | 0.3158 | 0.37937
5609001000 | 0.8421 | 1.01161
5609004000 | 0.2105 | 0.25287
5701101300 | 0.0526 | 0.06319
5701101600 | 0.0526 | 0.06319
5701104000 | 0.0526 | 0.06319
5701109000 | 0.0526 | 0.06319
5701901010 | 1 | 1.2013
5701901020 | 1 | 1.2013
5701901030 | 0.0526 | 0.06319
5701901090 | 0.0526 | 0.06319
5701902010 | 0.9474 | 1.13811
5701902020 | 0.9474 | 1.13811
5701902030 | 0.0526 | 0.06319
5701902090 | 0.0526 | 0.06319
5702101000 | 0.0447 | 0.0537
5702109010 | 0.0447 | 0.0537
5702109020 | 0.85 | 1.02111
5702109030 | 0.0447 | 0.0537
5702109090 | 0.0447 | 0.0537
5702201000 | 0.0447 | 0.0537
5702311000 | 0.0447 | 0.0537
5702312000 | 0.0895 | 0.10752
5702322000 | 0.0895 | 0.10752
5702391000 | 0.0895 | 0.10752
5702392010 | 0.8053 | 0.96741
5702392090 | 0.0447 | 0.0537
5702411000 | 0.0447 | 0.0537
5702412000 | 0.0447 | 0.0537
5702421000 | 0.0895 | 0.10752
5702422020 | 0.0895 | 0.10752
5702422080 | 0.0895 | 0.10752
5702491020 | 0.8947 | 1.0748
5702491080 | 0.8947 | 1.0748
5702492000 | 0.0895 | 0.10752
5702502000 | 0.0895 | 0.10752
5702504000 | 0.0447 | 0.0537
5702505200 | 0.0895 | 0.10752
5702505600 | 0.85 | 1.02111
5702912000 | 0.0447 | 0.0537
5702913000 | 0.0447 | 0.0537
5702914000 | 0.0447 | 0.0537
5702921000 | 0.0447 | 0.0537
5702929000 | 0.0447 | 0.0537
5702990500 | 0.8947 | 1.0748
5702991500 | 0.8947 | 1.0748
5703201000 | 0.0452 | 0.0543
5703202010 | 0.0452 | 0.0543
5703302000 | 0.0452 | 0.0543
5703900000 | 0.3615 | 0.43427
5705001000 | 0.0452 | 0.0543
5705002005 | 0.0452 | 0.0543
5705002015 | 0.0452 | 0.0543
5705002020 | 0.7682 | 0.92284
5705002030 | 0.0452 | 0.0543
5705002090 | 0.1808 | 0.2172
5801210000 | 0.9767 | 1.17331
5801221000 | 0.9767 | 1.17331
5801229000 | 0.9767 | 1.17331
5801230000 | 0.9767 | 1.17331
5801260010 | 0.7596 | 0.91251
5801260020 | 0.7596 | 0.91251
5801271000 | 0.9767 | 1.17331
5801275010 | 1.0852 | 1.30365
5801275020 | 0.9767 | 1.17331
5801310000 | 0.217 | 0.26068
5801320000 | 0.217 | 0.26068
5801330000 | 0.217 | 0.26068
5801360010 | 0.217 | 0.26068
5801360020 | 0.217 | 0.26068
5802110000 | 1.0309 | 1.23842
5802190000 | 1.0309 | 1.23842
5802200020 | 0.1085 | 0.13034
5802200090 | 0.3256 | 0.39114
5802300030 | 0.4341 | 0.52148
5802300090 | 0.1085 | 0.13034
5803001000 | 1.0852 | 1.30365
5803002000 | 0.8681 | 1.04285
5803003000 | 0.8681 | 1.04285
5803005000 | 0.3256 | 0.39114
5804101000 | 0.4341 | 0.52148
5804109090 | 0.2193 | 0.26345
5804291000 | 0.8772 | 1.05378
5804300020 | 0.3256 | 0.39114
5805001000 | 0.1085 | 0.13034
5805003000 | 1.0852 | 1.30365
5806101000 | 0.8681 | 1.04285
5806103090 | 0.217 | 0.26068
5806200010 | 0.2577 | 0.30958
5806200090 | 0.2577 | 0.30958
5806310000 | 0.8681 | 1.04285
5806393080 | 0.217 | 0.26068
5806400000 | 0.0814 | 0.09779
5807100510 | 0.8681 | 1.04285
5807102010 | 0.8681 | 1.04285
5807900510 | 0.8681 | 1.04285
5807902010 | 0.8681 | 1.04285
5808104000 | 0.217 | 0.26068
5808107000 | 0.217 | 0.26068
5808900010 | 0.4341 | 0.52148
5810100000 | 0.3256 | 0.39114
5810910010 | 0.7596 | 0.91251
5810910020 | 0.7596 | 0.91251
5810921000 | 0.217 | 0.26068
5810929030 | 0.217 | 0.26068
5810929050 | 0.217 | 0.26068
5810929080 | 0.217 | 0.26068
5811002000 | 0.8681 | 1.04285
5901102000 | 0.5643 | 0.67789
5901904000 | 0.8139 | 0.97774
5903101000 | 0.4341 | 0.52148
5903103000 | 0.1085 | 0.13034
5903201000 | 0.4341 | 0.52148
5903203090 | 0.1085 | 0.13034
5903901000 | 0.4341 | 0.52148
5903903090 | 0.1085 | 0.13034
5904901000 | 0.0326 | 0.03916
5905001000 | 0.1085 | 0.13034
5905009000 | 0.1085 | 0.13034
5906100000 | 0.4341 | 0.52148
5906911000 | 0.4341 | 0.52148
5906913000 | 0.1085 | 0.13034
5906991000 | 0.4341 | 0.52148
5906993000 | 0.1085 | 0.13034
5907002500 | 0.3798 | 0.45625
5907003500 | 0.3798 | 0.45625
5907008090 | 0.3798 | 0.45625
5908000000 | 0.7813 | 0.93858
5909001000 | 0.6837 | 0.82133
5909002000 | 0.4883 | 0.58659
5910001010 | 0.3798 | 0.45625
5910001020 | 0.3798 | 0.45625
5910001030 | 0.3798 | 0.45625
5910001060 | 0.3798 | 0.45625
5910001070 | 0.3798 | 0.45625
5910001090 | 0.6837 | 0.82133
5910009000 | 0.5697 | 0.68438
5911101000 | 0.1736 | 0.20855
5911102000 | 0.0434 | 0.05214
5911201000 | 0.4341 | 0.52148
5911310010 | 0.4341 | 0.52148
5911310020 | 0.4341 | 0.52148
5911310030 | 0.4341 | 0.52148
5911310080 | 0.4341 | 0.52148
5911320010 | 0.4341 | 0.52148
5911320020 | 0.4341 | 0.52148
5911320030 | 0.4341 | 0.52148
5911320080 | 0.4341 | 0.52148
5911400000 | 0.5426 | 0.65183
5911900040 | 0.3158 | 0.37937
5911900080 | 0.2105 | 0.25287
6001106000 | 0.1096 | 0.13166
6001210000 | 0.9868 | 1.18544
6001220000 | 0.1096 | 0.13166
6001290000 | 0.1096 | 0.13166
6001910010 | 0.8772 | 1.05378
6001910020 | 0.8772 | 1.05378
6001920010 | 0.0548 | 0.06583
6001920020 | 0.0548 | 0.06583
6001920030 | 0.0548 | 0.06583
6001920040 | 0.0548 | 0.06583
6001999000 | 0.1096 | 0.13166
6002404000 | 0.7401 | 0.88908
6002408020 | 0.1974 | 0.23714
6002408080 | 0.1974 | 0.23714
6002904000 | 0.7895 | 0.94843
6002908020 | 0.1974 | 0.23714
6002908080 | 0.1974 | 0.23714
6003201000 | 0.8772 | 1.05378
6003203000 | 0.8772 | 1.05378
6003301000 | 0.1096 | 0.13166
6003306000 | 0.1096 | 0.13166
6003401000 | 0.1096 | 0.13166
6003406000 | 0.1096 | 0.13166
6003901000 | 0.1096 | 0.13166
6003909000 | 0.1096 | 0.13166
6004100010 | 0.2961 | 0.3557
6004100025 | 0.2961 | 0.3557
6004100085 | 0.2961 | 0.3557
6004902010 | 0.2961 | 0.3557
6004902025 | 0.2961 | 0.3557
6004902085 | 0.2961 | 0.3557
6004909000 | 0.2961 | 0.3557
6005210000 | 0.7127 | 0.85617
6005220000 | 0.7127 | 0.85617
6005230000 | 0.7127 | 0.85617
6005240000 | 0.7127 | 0.85617
6005310010 | 0.1096 | 0.13166
6005310080 | 0.1096 | 0.13166
6005320010 | 0.1096 | 0.13166
6005320080 | 0.1096 | 0.13166
6005330010 | 0.1096 | 0.13166
6005330080 | 0.1096 | 0.13166
6005340010 | 0.1096 | 0.13166
6005340080 | 0.1096 | 0.13166
6005410010 | 0.1096 | 0.13166
6005410080 | 0.1096 | 0.13166
6005420010 | 0.1096 | 0.13166
6005420080 | 0.1096 | 0.13166
6005430010 | 0.1096 | 0.13166
6005430080 | 0.1096 | 0.13166
6005440010 | 0.1096 | 0.13166
6005440080 | 0.1096 | 0.13166
6005909000 | 0.1096 | 0.13166
6006211000 | 1.0965 | 1.31723
6006219020 | 0.7675 | 0.922
6006219080 | 0.7675 | 0.922
6006221000 | 1.0965 | 1.31723
6006229020 | 0.7675 | 0.922
6006229080 | 0.7675 | 0.922
6006231000 | 1.0965 | 1.31723
6006239020 | 0.7675 | 0.922
6006239080 | 0.7675 | 0.922
6006241000 | 1.0965 | 1.31723
6006249020 | 0.7675 | 0.922
6006249080 | 0.7675 | 0.922
6006310020 | 0.3289 | 0.39511
6006310040 | 0.3289 | 0.39511
6006310060 | 0.3289 | 0.39511
6006310080 | 0.3289 | 0.39511
6006320020 | 0.3289 | 0.39511
6006320040 | 0.3289 | 0.39511
6006320060 | 0.3289 | 0.39511
6006320080 | 0.3289 | 0.39511
6006330020 | 0.3289 | 0.39511
6006330040 | 0.3289 | 0.39511
6006330060 | 0.3289 | 0.39511
6006330080 | 0.3289 | 0.39511
6006340020 | 0.3289 | 0.39511
6006340040 | 0.3289 | 0.39511
6006340060 | 0.3289 | 0.39511
6006340080 | 0.3289 | 0.39511
6006410025 | 0.3289 | 0.39511
6006410085 | 0.3289 | 0.39511
6006420025 | 0.3289 | 0.39511
6006420085 | 0.3289 | 0.39511
6006430025 | 0.3289 | 0.39511
6006430085 | 0.3289 | 0.39511
6006440025 | 0.3289 | 0.39511
6006440085 | 0.3289 | 0.39511
6006909000 | 0.1096 | 0.13166
6101200010 | 1.02 | 1.22533
6101200020 | 1.02 | 1.22533
6101301000 | 0.2072 | 0.24891
6101900500 | 0.1912 | 0.22969
6101909010 | 0.5737 | 0.68919
6101909030 | 0.51 | 0.61266
6101909060 | 0.255 | 0.30633
6102100000 | 0.255 | 0.30633
6102200010 | 0.9562 | 1.14868
6102200020 | 0.9562 | 1.14868
6102300500 | 0.1785 | 0.21443
6102909005 | 0.5737 | 0.68919
6102909015 | 0.4462 | 0.53602
6102909030 | 0.255 | 0.30633
6103101000 | 0.0637 | 0.07652
6103104000 | 0.1218 | 0.14632
6103105000 | 0.1218 | 0.14632
6103106010 | 0.8528 | 1.02447
6103106015 | 0.8528 | 1.02447
6103106030 | 0.8528 | 1.02447
6103109010 | 0.5482 | 0.65855
6103109020 | 0.5482 | 0.65855
6103109030 | 0.5482 | 0.65855
6103109040 | 0.1218 | 0.14632
6103109050 | 0.1218 | 0.14632
6103109080 | 0.1827 | 0.21948
6103320000 | 0.8722 | 1.04777
6103398010 | 0.7476 | 0.89809
6103398030 | 0.3738 | 0.44905
6103398060 | 0.2492 | 0.29936
6103411010 | 0.3576 | 0.42958
6103411020 | 0.3576 | 0.42958
6103412000 | 0.3576 | 0.42958
6103421020 | 0.8343 | 1.00224
6103421035 | 0.8343 | 1.00224
6103421040 | 0.8343 | 1.00224
6103421050 | 0.8343 | 1.00224
6103421065 | 0.8343 | 1.00224
6103421070 | 0.8343 | 1.00224
6103422010 | 0.8343 | 1.00224
6103422015 | 0.8343 | 1.00224
6103422025 | 0.8343 | 1.00224
6103431520 | 0.2384 | 0.28639
6103431535 | 0.2384 | 0.28639
6103431540 | 0.2384 | 0.28639
6103431550 | 0.2384 | 0.28639
6103431565 | 0.2384 | 0.28639
6103431570 | 0.2384 | 0.28639
6103432020 | 0.2384 | 0.28639
6103432025 | 0.2384 | 0.28639
6103491020 | 0.2437 | 0.29276
6103491060 | 0.2437 | 0.29276
6103492000 | 0.2437 | 0.29276
6103498010 | 0.5482 | 0.65855
6103498014 | 0.3655 | 0.43908
6103498024 | 0.2437 | 0.29276
6103498026 | 0.2437 | 0.29276
6103498034 | 0.5482 | 0.65855
6103498038 | 0.3655 | 0.43908
6103498060 | 0.2437 | 0.29276
6104196010 | 0.8722 | 1.04777
6104196020 | 0.8722 | 1.04777
6104196030 | 0.8722 | 1.04777
6104196040 | 0.8722 | 1.04777
6104198010 | 0.5607 | 0.67357
6104198020 | 0.5607 | 0.67357
6104198030 | 0.5607 | 0.67357
6104198040 | 0.5607 | 0.67357
6104198060 | 0.3738 | 0.44905
6104198090 | 0.2492 | 0.29936
6104320000 | 0.8722 | 1.04777
6104392010 | 0.5607 | 0.67357
6104392030 | 0.3738 | 0.44905
6104392090 | 0.2492 | 0.29936
6104420010 | 0.8528 | 1.02447
6104420020 | 0.8528 | 1.02447
6104499010 | 0.5482 | 0.65855
6104499030 | 0.3655 | 0.43908
6104499060 | 0.2437 | 0.29276
6104520010 | 0.8822 | 1.05979
6104520020 | 0.8822 | 1.05979
6104598010 | 0.5672 | 0.68138
6104598030 | 0.3781 | 0.45421
6104598090 | 0.2521 | 0.30285
6104610010 | 0.2384 | 0.28639
6104610020 | 0.2384 | 0.28639
6104610030 | 0.2384 | 0.28639
6104621010 | 0.7509 | 0.90206
6104621020 | 0.8343 | 1.00224
6104621030 | 0.8343 | 1.00224
6104622006 | 0.7151 | 0.85905
6104622011 | 0.8343 | 1.00224
6104622016 | 0.7151 | 0.85905
6104622021 | 0.8343 | 1.00224
6104622026 | 0.7151 | 0.85905
6104622028 | 0.8343 | 1.00224
6104622030 | 0.8343 | 1.00224
6104622050 | 0.8343 | 1.00224
6104622060 | 0.8343 | 1.00224
6104631020 | 0.2384 | 0.28639
6104631030 | 0.2384 | 0.28639
6104632006 | 0.8343 | 1.00224
6104632011 | 0.8343 | 1.00224
6104632016 | 0.7151 | 0.85905
6104632021 | 0.8343 | 1.00224
6104632026 | 0.3576 | 0.42958
6104632028 | 0.3576 | 0.42958
6104632030 | 0.3576 | 0.42958
6104632050 | 0.7151 | 0.85905
6104632060 | 0.3576 | 0.42958
6104691000 | 0.3655 | 0.43908
6104692030 | 0.3655 | 0.43908
6104692060 | 0.3655 | 0.43908
6104698010 | 0.5482 | 0.65855
6104698014 | 0.3655 | 0.43908
6104698020 | 0.2437 | 0.29276
6104698022 | 0.5482 | 0.65855
6104698026 | 0.3655 | 0.43908
6104698038 | 0.2437 | 0.29276
6104698040 | 0.2437 | 0.29276
6105100010 | 0.9332 | 1.12105
6105100020 | 0.9332 | 1.12105
6105100030 | 0.9332 | 1.12105
6105202010 | 0.2916 | 0.3503
6105202020 | 0.2916 | 0.3503
6105202030 | 0.2916 | 0.3503
6105908010 | 0.5249 | 0.63056
6105908030 | 0.3499 | 0.42033
6105908060 | 0.2333 | 0.28026
6106100010 | 0.9332 | 1.12105
6106100020 | 0.9332 | 1.12105
6106100030 | 0.9332 | 1.12105
6106202010 | 0.2916 | 0.3503
6106202020 | 0.4666 | 0.56053
6106202030 | 0.2916 | 0.3503
6106901500 | 0.0583 | 0.07004
6106902510 | 0.5249 | 0.63056
6106902530 | 0.3499 | 0.42033
6106902550 | 0.2916 | 0.3503
6106903010 | 0.5249 | 0.63056
6106903030 | 0.3499 | 0.42033
6106903040 | 0.2916 | 0.3503
6107110010 | 1.0727 | 1.28863
6107110020 | 1.0727 | 1.28863
6107120010 | 0.4767 | 0.57266
6107120020 | 0.4767 | 0.57266
6107191000 | 0.1192 | 0.14319
6107210010 | 0.8343 | 1.00224
6107210020 | 0.7151 | 0.85905
6107220010 | 0.3576 | 0.42958
6107220015 | 0.1192 | 0.14319
6107220025 | 0.2384 | 0.28639
6107299000 | 0.1788 | 0.21479
6107910030 | 1.1918 | 1.43171
6107910040 | 1.1918 | 1.43171
6107910090 | 0.9535 | 1.14544
6107991030 | 0.3576 | 0.42958
6107991040 | 0.3576 | 0.42958
6107991090 | 0.3576 | 0.42958
6107999000 | 0.1192 | 0.14319
6108199010 | 1.0611 | 1.2747
6108199030 | 0.2358 | 0.28327
6108210010 | 1.179 | 1.41633
6108210020 | 1.179 | 1.41633
6108299000 | 0.3537 | 0.4249
6108310010 | 1.0611 | 1.2747
6108310020 | 1.0611 | 1.2747
6108320010 | 0.2358 | 0.28327
6108320015 | 0.2358 | 0.28327
6108320025 | 0.2358 | 0.28327
6108398000 | 0.3537 | 0.4249
6108910005 | 1.179 | 1.41633
6108910015 | 1.179 | 1.41633
6108910025 | 1.179 | 1.41633
6108910030 | 1.179 | 1.41633
6108910040 | 1.179 | 1.41633
6108920005 | 0.2358 | 0.28327
6108920015 | 0.2358 | 0.28327
6108920025 | 0.2358 | 0.28327
6108920030 | 0.2358 | 0.28327
6108920040 | 0.2358 | 0.28327
6108999000 | 0.3537 | 0.4249
6109100004 | 1.0022 | 1.20394
6109100007 | 1.0022 | 1.20394
6109100011 | 1.0022 | 1.20394
6109100012 | 1.0022 | 1.20394
6109100014 | 1.0022 | 1.20394
6109100018 | 1.0022 | 1.20394
6109100023 | 1.0022 | 1.20394
6109100027 | 1.0022 | 1.20394
6109100037 | 1.0022 | 1.20394
6109100040 | 1.0022 | 1.20394
6109100045 | 1.0022 | 1.20394
6109100060 | 1.0022 | 1.20394
6109100065 | 1.0022 | 1.20394
6109100070 | 1.0022 | 1.20394
6109901007 | 0.2948 | 0.35414
6109901009 | 0.2948 | 0.35414
6109901013 | 0.2948 | 0.35414
6109901025 | 0.2948 | 0.35414
6109901047 | 0.2948 | 0.35414
6109901049 | 0.2948 | 0.35414
6109901050 | 0.2948 | 0.35414
6109901060 | 0.2948 | 0.35414
6109901065 | 0.2948 | 0.35414
6109901070 | 0.2948 | 0.35414
6109901075 | 0.2948 | 0.35414
6109901090 | 0.2948 | 0.35414
6109908010 | 0.3499 | 0.42033
6109908030 | 0.2333 | 0.28026
6110201010 | 0.7476 | 0.89809
6110201020 | 0.7476 | 0.89809
6110201022 | 0.7476 | 0.89809
6110201024 | 0.7476 | 0.89809
6110201026 | 0.7476 | 0.89809
6110201029 | 0.7476 | 0.89809
6110201031 | 0.7476 | 0.89809
6110201033 | 0.7476 | 0.89809
6110202005 | 1.1214 | 1.34714
6110202010 | 1.1214 | 1.34714
6110202015 | 1.1214 | 1.34714
6110202020 | 1.1214 | 1.34714
6110202025 | 1.1214 | 1.34714
6110202030 | 1.1214 | 1.34714
6110202035 | 1.1214 | 1.34714
6110202040 | 1.0965 | 1.31723
6110202045 | 1.0965 | 1.31723
6110202067 | 1.0965 | 1.31723
6110202069 | 1.0965 | 1.31723
6110202077 | 1.0965 | 1.31723
6110202079 | 1.0965 | 1.31723
6110909010 | 0.5607 | 0.67357
6110909012 | 0.1246 | 0.14968
6110909014 | 0.3738 | 0.44905
6110909015 | 0.2492 | 0.29936
6110909023 | 0.2492 | 0.29936
6110909026 | 0.5607 | 0.67357
6110909028 | 0.1869 | 0.22452
6110909030 | 0.3738 | 0.44905
6110909034 | 0.2492 | 0.29936
6110909041 | 0.2492 | 0.29936
6110909044 | 0.5607 | 0.67357
6110909046 | 0.5607 | 0.67357
6110909052 | 0.3738 | 0.44905
6110909054 | 0.3738 | 0.44905
6110909064 | 0.2492 | 0.29936
6110909066 | 0.2492 | 0.29936
6110909067 | 0.5607 | 0.67357
6110909069 | 0.5607 | 0.67357
6110909071 | 0.5607 | 0.67357
6110909073 | 0.5607 | 0.67357
6110909079 | 0.3738 | 0.44905
6110909080 | 0.3738 | 0.44905
6110909081 | 0.3738 | 0.44905
6110909082 | 0.3738 | 0.44905
6110909088 | 0.2492 | 0.29936
6110909090 | 0.2492 | 0.29936
6111201000 | 1.1918 | 1.43171
6111202000 | 1.1918 | 1.43171
6111203000 | 0.9535 | 1.14544
6111204000 | 0.9535 | 1.14544
6111205000 | 0.9535 | 1.14544
6111206010 | 0.9535 | 1.14544
6111206020 | 0.9535 | 1.14544
6111206030 | 0.9535 | 1.14544
6111206050 | 0.9535 | 1.14544
6111206070 | 0.9535 | 1.14544
6111301000 | 0.2384 | 0.28639
6111302000 | 0.2384 | 0.28639
6111303000 | 0.2384 | 0.28639
6111304000 | 0.2384 | 0.28639
6111305010 | 0.2384 | 0.28639
6111305015 | 0.2384 | 0.28639
6111305020 | 0.2384 | 0.28639
6111305030 | 0.2384 | 0.28639
6111305050 | 0.2384 | 0.28639
6111305070 | 0.2384 | 0.28639
6111901000 | 0.2384 | 0.28639
6111902000 | 0.2384 | 0.28639
6111903000 | 0.2384 | 0.28639
6111904000 | 0.2384 | 0.28639
6111905010 | 0.2384 | 0.28639
6111905020 | 0.2384 | 0.28639
6111905030 | 0.2384 | 0.28639
6111905050 | 0.2384 | 0.28639
6111905070 | 0.2384 | 0.28639
6112110010 | 0.9535 | 1.14544
6112110020 | 0.9535 | 1.14544
6112110030 | 0.9535 | 1.14544
6112110040 | 0.9535 | 1.14544
6112110050 | 0.9535 | 1.14544
6112110060 | 0.9535 | 1.14544
6112120010 | 0.2384 | 0.28639
6112120020 | 0.2384 | 0.28639
6112120030 | 0.2384 | 0.28639
6112120040 | 0.2384 | 0.28639
6112120050 | 0.2384 | 0.28639
6112120060 | 0.2384 | 0.28639
6112191010 | 0.2492 | 0.29936
6112191020 | 0.2492 | 0.29936
6112191030 | 0.2492 | 0.29936
6112191040 | 0.2492 | 0.29936
6112191050 | 0.2492 | 0.29936
6112191060 | 0.2492 | 0.29936
6112201060 | 0.2492 | 0.29936
6112201070 | 0.2492 | 0.29936
6112201080 | 0.2492 | 0.29936
6112201090 | 0.2492 | 0.29936
6112202010 | 0.8722 | 1.04777
6112202020 | 0.3738 | 0.44905
6112202030 | 0.2492 | 0.29936
6112310010 | 0.1192 | 0.14319
6112310020 | 0.1192 | 0.14319
6112390010 | 1.0727 | 1.28863
6112410010 | 0.1192 | 0.14319
6112410020 | 0.1192 | 0.14319
6112410030 | 0.1192 | 0.14319
6112410040 | 0.1192 | 0.14319
6112490010 | 0.8939 | 1.07384
6113001005 | 0.1246 | 0.14968
6113001010 | 0.1246 | 0.14968
6113001012 | 0.1246 | 0.14968
6113009015 | 0.3489 | 0.41913
6113009020 | 0.3489 | 0.41913
6113009038 | 0.3489 | 0.41913
6113009042 | 0.3489 | 0.41913
6113009055 | 0.3489 | 0.41913
6113009060 | 0.3489 | 0.41913
6113009074 | 0.3489 | 0.41913
6113009082 | 0.3489 | 0.41913
6114200005 | 0.9747 | 1.17091
6114200010 | 0.9747 | 1.17091
6114200015 | 0.8528 | 1.02447
6114200020 | 0.8528 | 1.02447
6114200035 | 0.8528 | 1.02447
6114200040 | 0.8528 | 1.02447
6114200042 | 0.3655 | 0.43908
6114200044 | 0.8528 | 1.02447
6114200046 | 0.8528 | 1.02447
6114200048 | 0.8528 | 1.02447
6114200052 | 0.8528 | 1.02447
6114200055 | 0.8528 | 1.02447
6114200060 | 0.8528 | 1.02447
6114301010 | 0.2437 | 0.29276
6114301020 | 0.2437 | 0.29276
6114302060 | 0.1218 | 0.14632
6114303014 | 0.2437 | 0.29276
6114303020 | 0.2437 | 0.29276
6114303030 | 0.2437 | 0.29276
6114303042 | 0.2437 | 0.29276
6114303044 | 0.2437 | 0.29276
6114303052 | 0.2437 | 0.29276
6114303054 | 0.2437 | 0.29276
6114303060 | 0.2437 | 0.29276
6114303070 | 0.2437 | 0.29276
6114909045 | 0.5482 | 0.65855
6114909055 | 0.3655 | 0.43908
6114909070 | 0.3655 | 0.43908
6115100500 | 0.4386 | 0.52689
6115101510 | 1.0965 | 1.31723
6115103000 | 0.9868 | 1.18544
6115106000 | 0.1096 | 0.13166
6115298010 | 1.0965 | 1.31723
6115309030 | 0.7675 | 0.922
6115956000 | 0.9868 | 1.18544
6115959000 | 0.9868 | 1.18544
6115966020 | 0.2193 | 0.26345
6115991420 | 0.2193 | 0.26345
6115991920 | 0.2193 | 0.26345
6115999000 | 0.1096 | 0.13166
6116101300 | 0.3463 | 0.41601
6116101720 | 0.8079 | 0.97053
6116104810 | 0.4444 | 0.53386
6116105510 | 0.6464 | 0.77652
6116107510 | 0.6464 | 0.77652
6116109500 | 0.1616 | 0.19413
6116920500 | 0.8079 | 0.97053
6116920800 | 0.8079 | 0.97053
6116926410 | 1.0388 | 1.24791
6116926420 | 1.0388 | 1.24791
6116926430 | 1.1542 | 1.38654
6116926440 | 1.0388 | 1.24791
6116927450 | 1.0388 | 1.24791
6116927460 | 1.1542 | 1.38654
6116927470 | 1.0388 | 1.24791
6116928800 | 1.0388 | 1.24791
6116929400 | 1.0388 | 1.24791
6116938800 | 0.1154 | 0.13863
6116939400 | 0.1154 | 0.13863
6116994800 | 0.1154 | 0.13863
6116995400 | 0.1154 | 0.13863
6116999510 | 0.4617 | 0.55464
6116999530 | 0.3463 | 0.41601
6117106010 | 0.9234 | 1.10928
6117106020 | 0.2308 | 0.27726
6117808500 | 0.9234 | 1.10928
6117808710 | 1.1542 | 1.38654
6117808770 | 0.1731 | 0.20795
6117809510 | 0.9234 | 1.10928
6117809540 | 0.3463 | 0.41601
6117809570 | 0.1731 | 0.20795
6117909003 | 1.1542 | 1.38654
6117909015 | 0.2308 | 0.27726
6117909020 | 1.1542 | 1.38654
6117909040 | 1.1542 | 1.38654
6117909060 | 1.1542 | 1.38654
6117909080 | 1.1542 | 1.38654
6201121000 | 0.8981 | 1.07889
6201122010 | 0.8482 | 1.01894
6201122020 | 0.8482 | 1.01894
6201122025 | 0.9979 | 1.19878
6201122035 | 0.9979 | 1.19878
6201122050 | 0.6486 | 0.77916
6201122060 | 0.6486 | 0.77916
6201134015 | 0.1996 | 0.23978
6201134020 | 0.1996 | 0.23978
6201134030 | 0.2495 | 0.29972
6201134040 | 0.2495 | 0.29972
6201199010 | 0.5613 | 0.67429
6201199030 | 0.3742 | 0.44953
6201199060 | 0.3742 | 0.44953
6201921000 | 0.8779 | 1.05462
6201921500 | 1.0974 | 1.31831
6201922005 | 0.9754 | 1.17175
6201922010 | 0.9754 | 1.17175
6201922021 | 1.2193 | 1.46475
6201922031 | 1.2193 | 1.46475
6201922041 | 1.2193 | 1.46475
6201922051 | 0.9754 | 1.17175
6201922061 | 0.9754 | 1.17175
6201931000 | 0.2926 | 0.3515
6201932010 | 0.2439 | 0.293
6201932020 | 0.2439 | 0.293
6201933511 | 0.2439 | 0.293
6201933521 | 0.2439 | 0.293
6201999010 | 0.5487 | 0.65915
6201999030 | 0.3658 | 0.43944
6201999060 | 0.2439 | 0.293
6202121000 | 0.8879 | 1.06663
6202122010 | 1.0482 | 1.2592
6202122020 | 1.0482 | 1.2592
6202122025 | 1.2332 | 1.48144
6202122035 | 1.2332 | 1.48144
6202122050 | 0.8016 | 0.96296
6202122060 | 0.8016 | 0.96296
6202134005 | 0.2524 | 0.30321
6202134010 | 0.2524 | 0.30321
6202134020 | 0.3155 | 0.37901
6202134030 | 0.3155 | 0.37901
6202199010 | 0.5678 | 0.6821
6202199030 | 0.3786 | 0.45481
6202199060 | 0.2524 | 0.30321
6202921000 | 0.9865 | 1.18508
6202921500 | 0.9865 | 1.18508
6202922010 | 0.9865 | 1.18508
6202922020 | 0.9865 | 1.18508
6202922026 | 1.2332 | 1.48144
6202922031 | 1.2332 | 1.48144
6202922061 | 0.9865 | 1.18508
6202922071 | 0.9865 | 1.18508
6202931000 | 0.296 | 0.35558
6202932010 | 0.2466 | 0.29624
6202932020 | 0.2466 | 0.29624
6202935011 | 0.2466 | 0.29624
6202935021 | 0.2466 | 0.29624
6202999011 | 0.5549 | 0.6666
6202999031 | 0.37 | 0.44448
6202999061 | 0.2466 | 0.29624
6203122010 | 0.1233 | 0.14812
6203122020 | 0.1233 | 0.14812
6203191010 | 0.9865 | 1.18508
6203191020 | 0.9865 | 1.18508
6203191030 | 0.9865 | 1.18508
6203199010 | 0.5549 | 0.6666
6203199020 | 0.5549 | 0.6666
6203199030 | 0.5549 | 0.6666
6203199050 | 0.37 | 0.44448
6203199080 | 0.2466 | 0.29624
6203221000 | 1.2332 | 1.48144
6203321000 | 0.6782 | 0.81472
6203322010 | 1.1715 | 1.40732
6203322020 | 1.1715 | 1.40732
6203322030 | 1.1715 | 1.40732
6203322040 | 1.1715 | 1.40732
6203322050 | 1.1715 | 1.40732
6203332010 | 0.1233 | 0.14812
6203332020 | 0.1233 | 0.14812
6203392010 | 0.1233 | 0.14812
6203392020 | 0.1233 | 0.14812
6203399010 | 0.5549 | 0.6666
6203399030 | 0.37 | 0.44448
6203399060 | 0.2466 | 0.29624
6203421000 | 1.0616 | 1.2753
6203422005 | 0.7077 | 0.85016
6203422010 | 0.9436 | 1.13355
6203422025 | 0.9436 | 1.13355
6203422050 | 0.9436 | 1.13355
6203422090 | 0.9436 | 1.13355
6203424003 | 1.0616 | 1.2753
6203424006 | 1.1796 | 1.41705
6203424011 | 1.1796 | 1.41705
6203424016 | 0.9436 | 1.13355
6203424021 | 1.1796 | 1.41705
6203424026 | 1.1796 | 1.41705
6203424031 | 1.1796 | 1.41705
6203424036 | 1.1796 | 1.41705
6203424041 | 0.9436 | 1.13355
6203424046 | 0.9436 | 1.13355
6203424051 | 0.8752 | 1.05138
6203424056 | 0.8752 | 1.05138
6203424061 | 0.8752 | 1.05138
6203431000 | 0.1887 | 0.22669
6203431500 | 0.118 | 0.14175
6203432005 | 0.118 | 0.14175
6203432010 | 0.2359 | 0.28339
6203432025 | 0.2359 | 0.28339
6203432050 | 0.2359 | 0.28339
6203432090 | 0.2359 | 0.28339
6203432500 | 0.4128 | 0.4959
6203433510 | 0.059 | 0.07088
6203433590 | 0.059 | 0.07088
6203434010 | 0.1167 | 0.14019
6203434015 | 0.1167 | 0.14019
6203434020 | 0.1167 | 0.14019
6203434030 | 0.1167 | 0.14019
6203434035 | 0.1167 | 0.14019
6203434040 | 0.1167 | 0.14019
6203491005 | 0.118 | 0.14175
6203491010 | 0.2359 | 0.28339
6203491025 | 0.2359 | 0.28339
6203491050 | 0.2359 | 0.28339
6203491090 | 0.2359 | 0.28339
6203491500 | 0.4128 | 0.4959
6203492015 | 0.2359 | 0.28339
6203492020 | 0.2359 | 0.28339
6203492030 | 0.118 | 0.14175
6203492045 | 0.118 | 0.14175
6203492050 | 0.118 | 0.14175
6203492060 | 0.118 | 0.14175
6203498020 | 0.5308 | 0.63765
6203498030 | 0.3539 | 0.42514
6203498045 | 0.2359 | 0.28339
6204110000 | 0.0617 | 0.07412
6204120010 | 0.9865 | 1.18508
6204120020 | 0.9865 | 1.18508
6204120030 | 0.9865 | 1.18508
6204120040 | 0.9865 | 1.18508
6204132010 | 0.1233 | 0.14812
6204132020 | 0.1233 | 0.14812
6204192000 | 0.1233 | 0.14812
6204198010 | 0.5549 | 0.6666
6204198020 | 0.5549 | 0.6666
6204198030 | 0.5549 | 0.6666
6204198040 | 0.5549 | 0.6666
6204198060 | 0.3083 | 0.37036
6204198090 | 0.2466 | 0.29624
6204221000 | 1.2332 | 1.48144
6204321000 | 0.6782 | 0.81472
6204322010 | 1.1715 | 1.40732
6204322020 | 1.1715 | 1.40732
6204322030 | 0.9865 | 1.18508
6204322040 | 0.9865 | 1.18508
6204398010 | 0.5549 | 0.6666
6204398030 | 0.3083 | 0.37036
6204412010 | 0.0603 | 0.07244
6204412020 | 0.0603 | 0.07244
6204421000 | 1.2058 | 1.44853
6204422000 | 0.6632 | 0.7967
6204423010 | 1.2058 | 1.44853
6204423020 | 1.2058 | 1.44853
6204423030 | 0.9043 | 1.08634
6204423040 | 0.9043 | 1.08634
6204423050 | 0.9043 | 1.08634
6204423060 | 0.9043 | 1.08634
6204431000 | 0.4823 | 0.57939
6204432000 | 0.0603 | 0.07244
6204442000 | 0.4316 | 0.51848
6204495010 | 0.5549 | 0.6666
6204495030 | 0.2466 | 0.29624
6204510010 | 0.0631 | 0.0758
6204510020 | 0.0631 | 0.0758
6204521000 | 1.2618 | 1.5158
6204522010 | 1.1988 | 1.44012
6204522020 | 1.1988 | 1.44012
6204522030 | 1.1988 | 1.44012
6204522040 | 1.1988 | 1.44012
6204522070 | 1.0095 | 1.21271
6204522080 | 1.0095 | 1.21271
6204531000 | 0.4416 | 0.53049
6204532010 | 0.0631 | 0.0758
6204532020 | 0.0631 | 0.0758
6204533010 | 0.2524 | 0.30321
6204533020 | 0.2524 | 0.30321
6204591000 | 0.4416 | 0.53049
6204594010 | 0.5678 | 0.6821
6204594030 | 0.2524 | 0.30321
6204594060 | 0.2524 | 0.30321
6204611010 | 0.059 | 0.07088
6204611020 | 0.059 | 0.07088
6204619010 | 0.059 | 0.07088
6204619020 | 0.059 | 0.07088
6204619030 | 0.059 | 0.07088
6204619040 | 0.118 | 0.14175
6204621000 | 0.8681 | 1.04285
6204622005 | 0.7077 | 0.85016
6204622010 | 0.9436 | 1.13355
6204622025 | 0.9436 | 1.13355
6204622050 | 0.9436 | 1.13355
6204623000 | 1.1796 | 1.41705
6204624003 | 1.0616 | 1.2753
6204624006 | 1.1796 | 1.41705
6204624011 | 1.1796 | 1.41705
6204624021 | 0.9436 | 1.13355
6204624026 | 1.1796 | 1.41705
6204624031 | 1.1796 | 1.41705
6204624036 | 1.1796 | 1.41705
6204624041 | 1.1796 | 1.41705
6204624046 | 0.9436 | 1.13355
6204624051 | 0.9436 | 1.13355
6204624056 | 0.9335 | 1.12141
6204624061 | 0.9335 | 1.12141
6204624066 | 0.9335 | 1.12141
6204631000 | 0.2019 | 0.24254
6204631200 | 0.118 | 0.14175
6204631505 | 0.118 | 0.14175
6204631510 | 0.2359 | 0.28339
6204631525 | 0.2359 | 0.28339
6204631550 | 0.2359 | 0.28339
6204632000 | 0.4718 | 0.56677
6204632510 | 0.059 | 0.07088
6204632520 | 0.059 | 0.07088
6204633010 | 0.0603 | 0.07244
6204633090 | 0.0603 | 0.07244
6204633510 | 0.2412 | 0.28975
6204633525 | 0.2412 | 0.28975
6204633530 | 0.2412 | 0.28975
6204633532 | 0.2309 | 0.27738
6204633535 | 0.2309 | 0.27738
6204633540 | 0.2309 | 0.27738
6204691005 | 0.118 | 0.14175
6204691010 | 0.2359 | 0.28339
6204691025 | 0.2359 | 0.28339
6204691050 | 0.2359 | 0.28339
6204692010 | 0.059 | 0.07088
6204692020 | 0.059 | 0.07088
6204692030 | 0.059 | 0.07088
6204692510 | 0.2359 | 0.28339
6204692520 | 0.2359 | 0.28339
6204692530 | 0.2359 | 0.28339
6204692540 | 0.2309 | 0.27738
6204692550 | 0.2309 | 0.27738
6204692560 | 0.2309 | 0.27738
6204696010 | 0.5308 | 0.63765
6204696030 | 0.2359 | 0.28339
6204696070 | 0.3539 | 0.42514
6204699010 | 0.5308 | 0.63765
6204699030 | 0.2359 | 0.28339
6204699044 | 0.2359 | 0.28339
6204699046 | 0.2359 | 0.28339
6204699050 | 0.3539 | 0.42514
6205201000 | 1.1796 | 1.41705
6205202003 | 0.9436 | 1.13355
6205202016 | 0.9436 | 1.13355
6205202021 | 0.9436 | 1.13355
6205202026 | 0.9436 | 1.13355
6205202031 | 0.9436 | 1.13355
6205202036 | 1.0616 | 1.2753
6205202041 | 1.0616 | 1.2753
6205202044 | 1.0616 | 1.2753
6205202047 | 0.9436 | 1.13355
6205202051 | 0.9436 | 1.13355
6205202056 | 0.9436 | 1.13355
6205202061 | 0.9436 | 1.13355
6205202066 | 0.9436 | 1.13355
6205202071 | 0.9436 | 1.13355
6205202076 | 0.9436 | 1.13355
6205301000 | 0.4128 | 0.4959
6205302010 | 0.2949 | 0.35426
6205302020 | 0.2949 | 0.35426
6205302030 | 0.2949 | 0.35426
6205302040 | 0.2949 | 0.35426
6205302050 | 0.2949 | 0.35426
6205302055 | 0.2949 | 0.35426
6205302060 | 0.2949 | 0.35426
6205302070 | 0.2949 | 0.35426
6205302075 | 0.2949 | 0.35426
6205302080 | 0.2949 | 0.35426
6205900710 | 0.118 | 0.14175
6205900720 | 0.118 | 0.14175
6205901000 | 0.2359 | 0.28339
6205903010 | 0.5308 | 0.63765
6205903030 | 0.2359 | 0.28339
6205903050 | 0.1769 | 0.21251
6205904010 | 0.5308 | 0.63765
6205904030 | 0.2359 | 0.28339
6205904040 | 0.2359 | 0.28339
6206100010 | 0.5308 | 0.63765
6206100030 | 0.2359 | 0.28339
6206100040 | 0.118 | 0.14175
6206100050 | 0.2359 | 0.28339
6206203010 | 0.059 | 0.07088
6206203020 | 0.059 | 0.07088
6206301000 | 1.1796 | 1.41705
6206302000 | 0.6488 | 0.7794
6206303003 | 0.9436 | 1.13355
6206303011 | 0.9436 | 1.13355
6206303021 | 0.9436 | 1.13355
6206303031 | 0.9436 | 1.13355
6206303041 | 0.9436 | 1.13355
6206303051 | 0.9436 | 1.13355
6206303061 | 0.9436 | 1.13355
6206401000 | 0.4128 | 0.4959
6206403010 | 0.2949 | 0.35426
6206403020 | 0.2949 | 0.35426
6206403025 | 0.2949 | 0.35426
6206403030 | 0.2949 | 0.35426
6206403040 | 0.2949 | 0.35426
6206403050 | 0.2949 | 0.35426
6206900010 | 0.5308 | 0.63765
6206900030 | 0.2359 | 0.28339
6206900040 | 0.1769 | 0.21251
6207110000 | 1.0281 | 1.23506
6207199010 | 0.3427 | 0.41169
6207199030 | 0.4569 | 0.54887
6207210010 | 1.0502 | 1.26161
6207210020 | 1.0502 | 1.26161
6207210030 | 1.0502 | 1.26161
6207210040 | 1.0502 | 1.26161
6207220000 | 0.3501 | 0.42058
6207291000 | 0.1167 | 0.14019
6207299030 | 0.1167 | 0.14019
6207911000 | 1.0852 | 1.30365
6207913010 | 1.0852 | 1.30365
6207913020 | 1.0852 | 1.30365
6207997520 | 0.2412 | 0.28975
6207998510 | 0.2412 | 0.28975
6207998520 | 0.2412 | 0.28975
6208110000 | 0.2412 | 0.28975
6208192000 | 1.0852 | 1.30365
6208195000 | 0.1206 | 0.14488
6208199000 | 0.2412 | 0.28975
6208210010 | 1.0026 | 1.20442
6208210020 | 1.0026 | 1.20442
6208210030 | 1.0026 | 1.20442
6208220000 | 0.118 | 0.14175
6208299030 | 0.2359 | 0.28339
6208911010 | 1.0852 | 1.30365
6208911020 | 1.0852 | 1.30365
6208913010 | 1.0852 | 1.30365
6208913020 | 1.0852 | 1.30365
6208920010 | 0.1206 | 0.14488
6208920020 | 0.1206 | 0.14488
6208920030 | 0.1206 | 0.14488
6208920040 | 0.1206 | 0.14488
6208992010 | 0.0603 | 0.07244
6208992020 | 0.0603 | 0.07244
6208995010 | 0.2412 | 0.28975
6208995020 | 0.2412 | 0.28975
6208998010 | 0.2412 | 0.28975
6208998020 | 0.2412 | 0.28975
6209201000 | 1.0967 | 1.31747
6209202000 | 1.039 | 1.24815
6209203000 | 0.9236 | 1.10952
6209205030 | 0.9236 | 1.10952
6209205035 | 0.9236 | 1.10952
6209205045 | 0.9236 | 1.10952
6209205050 | 0.9236 | 1.10952
6209301000 | 0.2917 | 0.35042
6209302000 | 0.2917 | 0.35042
6209303010 | 0.2334 | 0.28038
6209303020 | 0.2334 | 0.28038
6209303030 | 0.2334 | 0.28038
6209303040 | 0.2334 | 0.28038
6209900500 | 0.1154 | 0.13863
6209901000 | 0.2917 | 0.35042
6209902000 | 0.2917 | 0.35042
6209903010 | 0.2917 | 0.35042
6209903015 | 0.2917 | 0.35042
6209903020 | 0.2917 | 0.35042
6209903030 | 0.2917 | 0.35042
6209903040 | 0.2917 | 0.35042
6210109010 | 0.217 | 0.26068
6210109040 | 0.217 | 0.26068
6210203000 | 0.0362 | 0.04349
6210205000 | 0.0844 | 0.10139
6210207000 | 0.1809 | 0.21732
6210303000 | 0.0362 | 0.04349
6210305000 | 0.0844 | 0.10139
6210307000 | 0.0362 | 0.04349
6210309020 | 0.422 | 0.50695
6210403000 | 0.037 | 0.04445
6210405020 | 0.4316 | 0.51848
6210405031 | 0.0863 | 0.10367
6210405039 | 0.0863 | 0.10367
6210405040 | 0.4316 | 0.51848
6210405050 | 0.4316 | 0.51848
6210407000 | 0.111 | 0.13334
6210409025 | 0.111 | 0.13334
6210409033 | 0.111 | 0.13334
6210409045 | 0.111 | 0.13334
6210409060 | 0.111 | 0.13334
6210503000 | 0.037 | 0.04445
6210505020 | 0.0863 | 0.10367
6210505031 | 0.0863 | 0.10367
6210505039 | 0.0863 | 0.10367
6210505040 | 0.0863 | 0.10367
6210505055 | 0.0863 | 0.10367
6210507000 | 0.4316 | 0.51848
6210509050 | 0.148 | 0.17779
6210509060 | 0.148 | 0.17779
6210509070 | 0.148 | 0.17779
6210509090 | 0.148 | 0.17779
6211111010 | 0.1206 | 0.14488
6211111020 | 0.1206 | 0.14488
6211118010 | 1.0852 | 1.30365
6211118020 | 1.0852 | 1.30365
6211118040 | 0.2412 | 0.28975
6211121010 | 0.0603 | 0.07244
6211121020 | 0.0603 | 0.07244
6211128010 | 1.0852 | 1.30365
6211128020 | 1.0852 | 1.30365
6211128030 | 0.6029 | 0.72426
6211200410 | 0.7717 | 0.92704
6211200420 | 0.0965 | 0.11593
6211200430 | 0.7717 | 0.92704
6211200440 | 0.0965 | 0.11593
6211200810 | 0.3858 | 0.46346
6211200820 | 0.3858 | 0.46346
6211201510 | 0.7615 | 0.91479
6211201515 | 0.2343 | 0.28146
6211201520 | 0.6443 | 0.774
6211201525 | 0.2929 | 0.35186
6211201530 | 0.7615 | 0.91479
6211201535 | 0.3515 | 0.42226
6211201540 | 0.7615 | 0.91479
6211201545 | 0.2929 | 0.35186
6211201550 | 0.7615 | 0.91479
6211201555 | 0.41 | 0.49253
6211201560 | 0.7615 | 0.91479
6211201565 | 0.2343 | 0.28146
6211202400 | 0.1233 | 0.14812
6211202810 | 0.8016 | 0.96296
6211202820 | 0.2466 | 0.29624
6211202830 | 0.3083 | 0.37036
6211203400 | 0.1233 | 0.14812
6211203810 | 0.8016 | 0.96296
6211203820 | 0.2466 | 0.29624
6211203830 | 0.3083 | 0.37036
6211204400 | 0.1233 | 0.14812
6211204815 | 0.8016 | 0.96296
6211204835 | 0.2466 | 0.29624
6211204860 | 0.3083 | 0.37036
6211205400 | 0.1233 | 0.14812
6211205810 | 0.8016 | 0.96296
6211205820 | 0.2466 | 0.29624
6211205830 | 0.3083 | 0.37036
6211206400 | 0.1233 | 0.14812
6211206810 | 0.8016 | 0.96296
6211206820 | 0.2466 | 0.29624
6211206830 | 0.3083 | 0.37036
6211207400 | 0.1233 | 0.14812
6211207810 | 0.9249 | 1.11108
6211207820 | 0.2466 | 0.29624
6211207830 | 0.3083 | 0.37036
6211320003 | 0.6412 | 0.77027
6211320007 | 0.8016 | 0.96296
6211320010 | 0.9865 | 1.18508
6211320015 | 0.9865 | 1.18508
6211320025 | 0.9865 | 1.18508
6211320030 | 0.9249 | 1.11108
6211320040 | 0.9249 | 1.11108
6211320050 | 0.9249 | 1.11108
6211320060 | 0.9249 | 1.11108
6211320070 | 0.9249 | 1.11108
6211320075 | 0.9249 | 1.11108
6211320081 | 0.9249 | 1.11108
6211330003 | 0.0987 | 0.11857
6211330007 | 0.1233 | 0.14812
6211330010 | 0.3083 | 0.37036
6211330015 | 0.3083 | 0.37036
6211330017 | 0.3083 | 0.37036
6211330025 | 0.37 | 0.44448
6211330030 | 0.37 | 0.44448
6211330035 | 0.37 | 0.44448
6211330040 | 0.37 | 0.44448
6211330054 | 0.37 | 0.44448
6211330058 | 0.37 | 0.44448
6211330061 | 0.37 | 0.44448
6211390510 | 0.1233 | 0.14812
6211390520 | 0.1233 | 0.14812
6211390530 | 0.1233 | 0.14812
6211390540 | 0.1233 | 0.14812
6211390545 | 0.1233 | 0.14812
6211390551 | 0.1233 | 0.14812
6211399010 | 0.2466 | 0.29624
6211399020 | 0.2466 | 0.29624
6211399030 | 0.2466 | 0.29624
6211399040 | 0.2466 | 0.29624
6211399050 | 0.2466 | 0.29624
6211399060 | 0.2466 | 0.29624
6211399070 | 0.2466 | 0.29624
6211399090 | 0.2466 | 0.29624
6211420003 | 0.6412 | 0.77027
6211420007 | 0.8016 | 0.96296
6211420010 | 0.9865 | 1.18508
6211420020 | 0.9865 | 1.18508
6211420025 | 1.1099 | 1.33332
6211420030 | 0.8632 | 1.03696
6211420040 | 0.9865 | 1.18508
6211420054 | 1.1099 | 1.33332
6211420056 | 1.1099 | 1.33332
6211420060 | 0.9865 | 1.18508
6211420070 | 1.1099 | 1.33332
6211420075 | 1.1099 | 1.33332
6211420081 | 1.1099 | 1.33332
6211430003 | 0.0987 | 0.11857
6211430007 | 0.1233 | 0.14812
6211430010 | 0.2466 | 0.29624
6211430020 | 0.2466 | 0.29624
6211430030 | 0.2466 | 0.29624
6211430040 | 0.2466 | 0.29624
6211430050 | 0.2466 | 0.29624
6211430060 | 0.2466 | 0.29624
6211430064 | 0.3083 | 0.37036
6211430066 | 0.2466 | 0.29624
6211430074 | 0.3083 | 0.37036
6211430076 | 0.37 | 0.44448
6211430078 | 0.37 | 0.44448
6211430091 | 0.2466 | 0.29624
6211499010 | 0.2466 | 0.29624
6211499020 | 0.2466 | 0.29624
6211499030 | 0.2466 | 0.29624
6211499040 | 0.2466 | 0.29624
6211499050 | 0.2466 | 0.29624
6211499060 | 0.2466 | 0.29624
6211499070 | 0.2466 | 0.29624
6211499080 | 0.2466 | 0.29624
6211499090 | 0.2466 | 0.29624
6212105010 | 0.9138 | 1.09775
6212105020 | 0.2285 | 0.2745
6212105030 | 0.2285 | 0.2745
6212109010 | 0.9138 | 1.09775
6212109020 | 0.2285 | 0.2745
6212109040 | 0.2285 | 0.2745
6212200010 | 0.6854 | 0.82337
6212200020 | 0.2856 | 0.34309
6212200030 | 0.1142 | 0.13719
6212300010 | 0.6854 | 0.82337
6212300020 | 0.2856 | 0.34309
6212300030 | 0.1142 | 0.13719
6212900010 | 0.1828 | 0.2196
6212900020 | 0.1828 | 0.2196
6212900030 | 0.1828 | 0.2196
6212900050 | 0.0914 | 0.1098
6212900090 | 0.4112 | 0.49397
6213201000 | 1.1187 | 1.34389
6213202000 | 1.0069 | 1.20959
6213900700 | 0.4475 | 0.53758
6213901000 | 0.4475 | 0.53758
6213902000 | 0.3356 | 0.40316
6214300000 | 0.1142 | 0.13719
6214400000 | 0.1142 | 0.13719
6214900010 | 0.8567 | 1.02915
6214900090 | 0.2285 | 0.2745
6215100025 | 0.1142 | 0.13719
6215200000 | 0.1142 | 0.13719
6215900015 | 1.0281 | 1.23506
6216000800 | 0.0685 | 0.08229
6216001300 | 0.3427 | 0.41169
6216001720 | 0.6397 | 0.76847
6216001730 | 0.1599 | 0.19209
6216001900 | 0.3427 | 0.41169
6216002110 | 0.578 | 0.69435
6216002120 | 0.2477 | 0.29756
6216002410 | 0.6605 | 0.79346
6216002425 | 0.1651 | 0.19833
6216002600 | 0.1651 | 0.19833
6216002910 | 0.6605 | 0.79346
6216002925 | 0.1651 | 0.19833
6216003100 | 0.1651 | 0.19833
6216003300 | 0.5898 | 0.70853
6216003500 | 0.5898 | 0.70853
6216003800 | 1.1796 | 1.41705
6216004100 | 1.1796 | 1.41705
6217109510 | 0.9646 | 1.15877
6217109520 | 0.1809 | 0.21732
6217109530 | 0.2412 | 0.28975
6217909003 | 0.9646 | 1.15877
6217909005 | 0.1809 | 0.21732
6217909010 | 0.2412 | 0.28975
6217909025 | 0.9646 | 1.15877
6217909030 | 0.1809 | 0.21732
6217909035 | 0.2412 | 0.28975
6217909050 | 0.9646 | 1.15877
6217909055 | 0.1809 | 0.21732
6217909060 | 0.2412 | 0.28975
6217909075 | 0.9646 | 1.15877
6217909080 | 0.1809 | 0.21732
6217909085 | 0.2412 | 0.28975
6301300010 | 0.8305 | 0.99768
6301300020 | 0.8305 | 0.99768
6301900030 | 0.2215 | 0.26609
6302100005 | 1.1073 | 1.3302
6302100008 | 1.1073 | 1.3302
6302100015 | 1.1073 | 1.3302
6302213010 | 1.1073 | 1.3302
6302213020 | 1.1073 | 1.3302
6302213030 | 1.1073 | 1.3302
6302213040 | 1.1073 | 1.3302
6302213050 | 1.1073 | 1.3302
6302215010 | 0.7751 | 0.93113
6302215020 | 0.7751 | 0.93113
6302215030 | 0.7751 | 0.93113
6302215040 | 0.7751 | 0.93113
6302215050 | 0.7751 | 0.93113
6302217010 | 1.1073 | 1.3302
6302217020 | 1.1073 | 1.3302
6302217030 | 1.1073 | 1.3302
6302217040 | 1.1073 | 1.3302
6302217050 | 1.1073 | 1.3302
6302219010 | 0.7751 | 0.93113
6302219020 | 0.7751 | 0.93113
6302219030 | 0.7751 | 0.93113
6302219040 | 0.7751 | 0.93113
6302219050 | 0.7751 | 0.93113
6302221010 | 0.5537 | 0.66516
6302221020 | 0.3876 | 0.46562
6302221030 | 0.5537 | 0.66516
6302221040 | 0.3876 | 0.46562
6302221050 | 0.3876 | 0.46562
6302221060 | 0.3876 | 0.46562
6302222010 | 0.3876 | 0.46562
6302222020 | 0.3876 | 0.46562
6302222030 | 0.3876 | 0.46562
6302290020 | 0.2215 | 0.26609
6302313010 | 1.1073 | 1.3302
6302313020 | 1.1073 | 1.3302
6302313030 | 1.1073 | 1.3302
6302313040 | 1.1073 | 1.3302
6302313050 | 1.1073 | 1.3302
6302315010 | 0.7751 | 0.93113
6302315020 | 0.7751 | 0.93113
6302315030 | 0.7751 | 0.93113
6302315040 | 0.7751 | 0.93113
6302315050 | 0.7751 | 0.93113
6302317010 | 1.1073 | 1.3302
6302317020 | 1.1073 | 1.3302
6302317030 | 1.1073 | 1.3302
6302317040 | 1.1073 | 1.3302
6302317050 | 1.1073 | 1.3302
6302319010 | 0.7751 | 0.93113
6302319020 | 0.7751 | 0.93113
6302319030 | 0.7751 | 0.93113
6302319040 | 0.7751 | 0.93113
6302319050 | 0.7751 | 0.93113
6302321010 | 0.5537 | 0.66516
6302321020 | 0.3876 | 0.46562
6302321030 | 0.5537 | 0.66516
6302321040 | 0.3876 | 0.46562
6302321050 | 0.3876 | 0.46562
6302321060 | 0.3876 | 0.46562
6302322010 | 0.5537 | 0.66516
6302322020 | 0.3876 | 0.46562
6302322030 | 0.5537 | 0.66516
6302322040 | 0.3876 | 0.46562
6302322050 | 0.3876 | 0.46562
6302322060 | 0.3876 | 0.46562
6302390030 | 0.2215 | 0.26609
6302402010 | 0.9412 | 1.13066
6302511000 | 0.5537 | 0.66516
6302512000 | 0.8305 | 0.99768
6302513000 | 0.5537 | 0.66516
6302514000 | 0.7751 | 0.93113
6302593020 | 0.5537 | 0.66516
6302600010 | 1.1073 | 1.3302
6302600020 | 0.9966 | 1.19722
6302600030 | 0.9966 | 1.19722
6302910005 | 0.9966 | 1.19722
6302910015 | 1.1073 | 1.3302
6302910025 | 0.9966 | 1.19722
6302910035 | 0.9966 | 1.19722
6302910045 | 0.9966 | 1.19722
6302910050 | 0.9966 | 1.19722
6302910060 | 0.9966 | 1.19722
6302931000 | 0.4429 | 0.53206
6302932000 | 0.4429 | 0.53206
6302992000 | 0.2215 | 0.26609
6303191100 | 0.8859 | 1.06423
6303910010 | 0.609 | 0.73159
6303910020 | 0.609 | 0.73159
6303921000 | 0.2768 | 0.33252
6303922010 | 0.2768 | 0.33252
6303922030 | 0.2768 | 0.33252
6303922050 | 0.2768 | 0.33252
6303990010 | 0.2768 | 0.33252
6304111000 | 0.9966 | 1.19722
6304113000 | 0.1107 | 0.13298
6304190500 | 0.9966 | 1.19722
6304191000 | 1.1073 | 1.3302
6304191500 | 0.3876 | 0.46562
6304192000 | 0.3876 | 0.46562
6304193060 | 0.2215 | 0.26609
6304910020 | 0.8859 | 1.06423
6304910070 | 0.2215 | 0.26609
6304920000 | 0.8859 | 1.06423
6304996040 | 0.2215 | 0.26609
6505001515 | 1.1189 | 1.34413
6505001525 | 0.5594 | 0.67201
6505001540 | 1.1189 | 1.34413
6505002030 | 0.9412 | 1.13066
6505002060 | 0.9412 | 1.13066
6505002545 | 0.5537 | 0.66516
6507000000 | 0.3986 | 0.47884
9404901000 | 0.2104 | 0.25275
9404908020 | 0.9966 | 1.19722
9404908040 | 0.9966 | 1.19722
9404908505 | 0.6644 | 0.79814
9404908536 | 0.0997 | 0.11977
9404909505 | 0.6644 | 0.79814
9404909570 | 0.2658 | 0.31931
9619002100 | 0.8681 | 1.04285
9619002500 | 0.1085 | 0.13034
9619003100 | 0.9535 | 1.14544
9619003300 | 1.1545 | 1.3869
9619004100 | 0.2384 | 0.28639
9619004300 | 0.2384 | 0.28639
9619006100 | 0.8528 | 1.02447
9619006400 | 0.2437 | 0.29276
9619006800 | 0.3655 | 0.43908
9619007100 | 1.1099 | 1.33332
9619007400 | 0.2466 | 0.29624
9619007800 | 0.2466 | 0.29624
9619007900 | 0.2466 | 0.29624

* * * * *

Authority: 7 U.S.C. 2101-2118.

Dated: August 28, 2015.
Rex A. Barnes,
Associate Administrator.

[FR Doc. 2015-21782 Filed 9-2-15; 8:45 am]

BILLING CODE 3410-02-P